DEPARTMENT OF HOUSING AND URBAN DEVELOPMENT

[Docket No. FR-5148-N-03]

Notice of Regulatory Waiver Requests Granted for the Third Quarter of Calendar Year 2007

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on July 1, 2007 and ending on September 30, 2007.

FOR FURTHER INFORMATION CONTACT: For general information about this notice, contact Aaron Santa Anna, Assistant General Counsel for Regulations, Department of Housing and Urban Development, 451 Seventh Street, SW., Room 10276,Washington, DC 20410-0500, telephone (202) 708-3055 (this is not a toll-free number). Persons with hearing or speech impairments may access this number through TTY by calling the toll-free Federal Information Relay Service at (800) 877-8339.

For information concerning a particular waiver that was granted and for which public notice is provided in this document, contact the person whose name and address follow the description of the waiver granted in the accompanying list of waivers that have been granted in the third quarter of calendar year 2007.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). In accordance with those procedures and with the requirements of section 106 of the HUD Reform Act, waivers of regulations are granted by the Assistant Secretary with jurisdiction over the regulations for which a waiver was requested. In those cases in which a General Deputy Assistant Secretary granted the waiver, the General Deputy Assistant Secretary was serving in the absence of the Assistant Secretary in accordance with the office's Order of Succession.

This notice covers waivers of regulations granted by HUD from July 1, 2007, through September 30, 2007. For ease of reference, the waivers granted by HUD are listed by HUD program office (for example, the Office of Community Planning and Development, the Office of Fair Housing and Equal Opportunity, the Office of Housing, and the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report (the third quarter of calendar year 2007) before the next report is published (the fourth quarter of calendar year 2007), HUD will include any additional waivers granted for the third quarter in the next report.

Accordingly, information about approved waiver requests pertaining to HUD regulations is provided in the Appendix that follows this notice.

Dated: December 14, 2007.
Robert M. Couch,
General Counsel.

Appendix

Listing of Waivers of Regulatory Requirements Granted by Offices of the Department of Housing and Urban Development July 1, 2007 through September 30, 2007

Note to Reader: More information about the granting of these waivers, including a copy of the waiver request and approval, may be obtained by contacting the person whose name is listed as the contact person directly after each set of regulatory waivers granted.

The regulatory waivers granted appear in the following order:

I. Regulatory Waivers Granted by the Office of Community Planning and Development

II. Regulatory Waivers Granted by the Office of Housing

III. Regulatory Waivers Granted by the Office of Public and Indian Housing

I. Regulatory Waivers Granted by the Office of Community Planning and Development

For further information about the following regulatory waivers, please see the name of the contact person that immediately follows the description of the waiver granted.

• Regulation: 24 CFR 91.225(b)(4)(ii).

Project/Activity: The City of Waterloo, Iowa, sought a waiver to amend its certification of its overall benefit period so that it may use Community Development Block Grant (CDBG) funds to pay for construction of the Riverwalk Loop/reconstruction of the existing Cedar River Dam, which can only meet the national objective of slum/blight on an area basis.

Nature of Requirement: The HOME regulations at 24 CFR 91.225(b)(4)(ii) require that a grantee must certify it will achieve the primary objective of benefit to low- and moderate-income persons by expending 70 percent of its CDBG grant for such persons over a period of one, two, or three consecutive program years as selected by the grantee.

Granted by: Roy Bernardi, Deputy Secretary.

Date: July 20, 2007.

Reason Waived: The waiver was granted to allow the city to change its overall benefit certification from program years 2005-2007 to a one year certification period for program year 2005 and a new three year certification period for program years 2006-2008 in order that the city could carry out the Riverwalk Loop/Cedar River Dam project using the slum/blight area national objective.

Contact: Gloria Coates, Office of Block Grant Assistance, Entitlement Communities Division, Office of Community Planning and Development, 451 Seventh Street, SW., Room 7282, Washington, DC 20410-7000, telephone (202) 402-2184, gloria.l.coates@hud.gov.

• Regulations: 24 CFR 92.500(d)(1)(B) and 24 CFR 92.500(d)(1)(C).

Project/Activity: The Jefferson Parish Consortium, Louisiana, requested a suspension of its FY 2005 commitment deadline and FY 2002 expenditure requirement to facilitate its recovery from the devastation caused by Hurricanes Katrina and Rita. The Consortium is located within a declared disaster area pursuant to Title IV of the Robert T. Stafford Disaster Relief and Emergency Assistance Act. The Consortium undertook a number of actions to expedite the use of its HOME funds, and completed the conditions inventory of its HOME-assisted properties that was previously requested by HUD.

Nature of Requirement: The HOME regulations at 24 CFR 92.500(d)(1)(B) require that a participating jurisdiction (PJ) commit its annual allocation of HOME funds within 24 months after HUD notifies the PJ that HUD has executed the jurisdiction's HOME Investment Partnership Agreement. Section 92.500(d)(1)(C) of the regulations require that a PJ expend its annual allocation of HOME funds within five years after HUD notifies the PJ that HUD has executed the jurisdiction's HOME Investment Partnership Agreement.

Granted By: Nelson R. Bregón, General Deputy Assistant Secretary for Community Planning and Development.

Date Granted: September 14, 2007.

Reasons Waived: It was determined that the waiver would facilitate the recovery of the Jefferson Parish Consortium from the devastation caused by Hurricane Katrina and Hurricane Rita by suspending its FY 2005 HOME commitment requirement and FY 2002 HOME expenditure requirement. It was also determined that the waiver would help ensure that needed HOME funds are not deobligated, and that the Consortium has sufficient time to rebuild its capacity and housing delivery systems.

Contact: Virginia Sardone, Office of Affordable Housing Programs, Office of Community and Planning Development, Department of Housing and Urban Development, 451 Seventh Street, SW., Room 7158, Washington, DC 20410-7000, telephone (202) 708-2470.

• Regulation: 24 CFR 570.208(a)(3).

Project/Activity: Hillsborough County, Florida's acquisition of land where 160 single unit residential structures will be constructed.

Nature of Requirement: The CDBG regulations 24 CFR 570.208(3) require that 100 percent of single-unit residential structures be occupied by low and moderate income households.

Granted by: Roy Bernardi, Deputy Secretary.

Date: September 27, 2007.

Reason Waived: The waiver was granted to allow only 100 of the 160 single-unit residential structures to be occupied by low and moderate income households. The Bayou Pass project is a mixed-income development. Hillsborough County sought to provide mixed-income housing targeted to a broader sector of the housing market on the basis that the project would increase the supply of affordable housing available to low- and moderate-income households as well as essential service personnel. Inasmuch as the objectives of the CDBG program include the provision of decent housing and a suitable living environment, the waiver was granted.

Contact: Gloria Coates, Office of Block Grant Assistance, Entitlement Communities Division, Office of Community Planning and Development, 451 Seventh Street, SW., Room 7282, Washington, DC 20410-7000, telephone (202)-402-2184, gloria.l.coates@hud.gov.

• Regulation: 24 CFR 570.209(b)(3)(i)(A) and (b)(1).

Project/Activity: Convention Center and Oceanographic Center—Poncé, Puerto Rico.

Nature of Requirement: The CDBG regulations at 24 CFR 570.209(b)(3)(i)(A) and (b)(1) establish standards for evaluating public benefit for individual activities and in the aggregate, requires the grantee to make sure that at least a minimum level of public benefit is obtained from the expenditure of CDBG funds. In this case, the amount of CDBG assistance shall not exceed $50,000 per full-time equivalent, permanent job created or retained for individual activities, or $35,000 in the aggregate.

Granted by: Roy A. Bernardi, Deputy Secretary.

Date Granted: July 20, 2007.

Reason Waived: The Municipality of Poncé, Puerto Rico, requested a waiver of 24 CFR 570.209(b)(3)(i)(A) and (b)(1) because the proposed use of its Section 108 Loan Guarantee request for the publicly owned convention center would exceed the public benefit standard for an individual activity of expending not more than $50,000 in CDBG assistance per full-time equivalent, permanent job created or retained. Such expenditure was also expected to prevent the Municipality from complying with standards for activities in the aggregate under 24 CFR 570.209(b)(1). The development of the publicly owned convention center development showed good cause for the waiver because it was an economic development activity which was estimated to create 221 new jobs, primarily benefiting low and moderate income persons. Also, it would serve as the key anchor facility for the development of two hotels which would create an estimated 490 new jobs, primarily benefiting low- and moderate-income persons.

Contact: Paul Webster, Director, Financial Management Division, Office of Community Planning and Development, Department of Housing and Urban Development, 451 Seventh Street, SW., Room 7180, Washington, DC 20410-7000, telephone 202-708-1871.

II. Regulatory Waivers Granted by the Office of Housing—Federal Housing Administration (FHA)

For further information about the following regulatory waivers, please see the name of the contact person that immediately follows the description of the waiver granted.

• Regulation: 24 CFR 203.32(c)(3).

Project/Activity: FHASecure.

Nature of Requirement: Section 203.32(c)(3) of HUD's Federal Housing Administration (FHA) regulations provides that to be eligible for FHA insurance, the sum of a first mortgage with a second mortgage secured by the mortgaged property cannot exceed the permissible loan-to-value applicable to the insured mortgage and cannot exceed the maximum mortgage limit for the area in which the property is located.

Granted by: Brian D. Montgomery, Assistant Secretary for Housing—Federal Housing Commissioner.

Date Granted: September 4, 2007.

Reason Waived: FHASecure is a temporary initiative developed to assist current owners of non-FHA adjustable rate mortgages (ARMs) that have “reset” to large increases in mortgage payments, resulting in, or may result in, delinquent mortgages. The initiative permits holders of non-FHA (ARMs) the ability to refinance into an FHA mortgage insurance product. The waiver allows mortgage lenders to refinance non-FHA ARMs where debt costs exceed the FHA loan-to-value and maximum mortgage amount limits.

Contact: Maynard T. Curry, Housing Program and Policy Specialist, Office of Single Family Program Development, Office of Housing, Department of Housing and Urban Development, 451 Seventh Street, SW., Room 9266, Washington, DC 20410-8000, telephone (202) 708-2121.

• Regulation: 24 CFR 203.43(f).

Project/Activity: Manufactured housing installation requirements in Federal Emergency Management Agency (FEMA) designated flood zone areas in the State of Louisiana.

Nature of Requirement: FHA's regulations at 24 CFR 203.43(f)(c)(i) provides that manufactured homes which have not been permanently sited for more than one year prior to application for FHA mortgage insurance, must have the finished grade beneath the manufactured home at or above the 100 year return frequency flood elevation. Section 203.43(f)(d)(ii) requires that manufactured homes which have been permanently erected on a site for more than one year prior to the date of application for mortgage insurance must have the finished grade beneath the manufactured home at or above the 100 year return frequency flood elevation. HUD's minimum property standards for one- and two-family dwellings, at 24 CFR 200.296d(c)(4)(i) provide that the elevation of the lowest floor in structures with basements, located in FEMA designated areas of special flood hazard, shall be at or above the base flood level (100 year flood level) required for new construction or substantial improvement of residential structures under regulations for the National Flood Insurance Program (NFIP) found at 44 CFR 60.3. NFIP installation requirements for manufactured homes are primarily set forth at 44 CFR 60.3(c)(6) and (12). Section 60.3(c)(6) of 44 CFR requires the unit to be elevated to or above the base flood elevation and be securely anchored to an adequately anchored foundation system to resist flotation collapse and lateral movement. Installation requirements for manufactured homes not subject to 44 CFR 60.3(c)(6) are found at 44 CFR 60.3(c)(12) and provide that the manufactured home be elevated so that either: (1) The lowest floor is at or above the base floor elevation, or (2) the manufactured home chassis is supported by reinforced piers or other foundation elements of at least equivalent strength that are no less than 36 inches in height above grade and securely anchored to an adequately anchored foundation system to resist floatation, collapse, and lateral movement.

Granted by: Brian D. Montgomery, Assistant Secretary for Housing—Federal Housing Commissioner.

Date Granted: August 2, 2007.

Reason Waived: This measure extended a waiver originally granted October 12, 2006, to continue to permit the placement of FHA mortgage insurance on manufactured homes installed in FEMA-designated flood plains in accordance with the NFIP installation requirements. HUD's installation requirements for manufactured homes were viewed as more strenuous than the requirements for any other form of single family housing.

Contact: Maynard T. Curry, Housing Program and Policy Specialist, Office of Single Family Program Development, Office of Housing, Department of Housing and Urban Development, 451 Seventh Street, SW., Room 9266, Washington, DC 20410-8000, telephone (202) 708-2121.

• Regulation: 24 CFR 219.220(b).

Project/Activity: Centennial Estates, Hamilton County, Ohio, FHA Project Number 046-45005, Formerly 046-44171. The owners requested a waiver of the regulation governing repayment of the flexible subsidy loan term to extend it beyond the prepayment date and the May 1, 2020, maturity date of the existing mortgage.

Nature of Requirement: Section 219.220(b) of FHA's regulations governs the repayment of operating assistance provided under the Flexible Subsidy Program for Troubled Projects prior to May 1, 1996 and states: “Assistance that has been paid to a project owner under this subpart must be repaid at the earlier of the expiration of the term of the mortgage, termination of mortgage insurance, prepayment of the mortgage, or a sale of the project.* * *” Either of these actions would typically terminate FHA involvement with the property, and the Flexible Subsidy loan would be repaid, in whole, at that time.

Granted by: Brian D. Montgomery, Assistant Secretary for Housing—Federal Housing Commissioner.

Date Granted: July 5, 2007.

Reason Waived: This regulatory waiver was granted to allow Centennial Estates to extend the term of the flexible subsidy loan beyond the prepayment date and the May 1, 2020, maturity date of the existing mortgage. Centennial Estates obtained a section 223(a)(7) firm commitment from Prudential Huntoon Paige. The new committed subsidy balance of the interest reduction payments (IRP) is to be fully utilized to pay all of the principal and interest payments attributable to the Part-A portion of the loan. The loan is to be amortized for 25.5 years which is 12 years beyond the unexpired term of the existing mortgage. Loan proceeds are to be used to cover the existing mortgage debt, loan closing charges and used for repairs on the project. The financial viability of the project will improve.

Contact: Beverly J. Miller, Director, Office of Asset Management, Office of Housing, Department of Housing and Urban Development, 451 Seventh Street, SW., Room 6160, Washington, DC 20410-8000, telephone (202) 708-3730.

• Regulation: 24 CFR 219.220(b) (1995).

Project/Activity: Bishop Cooperative Apartments, Wyandotte, Michigan, FHA Project Number 044-SH032. The owner has requested waiver of the regulations governing repayment of the Flexible Subsidy Note at the time of prepayment of an FHA-insured mortgage.

Nature of Requirement: Section 219.220(b) governs the repayment of operating assistance provided under the Flexible Subsidy Program for Troubled Projects prior to May 1, 1996 states: “Assistance that has been paid to a project owner under this subpart must be repaid at the earlier of the expiration of the term of the mortgage, termination of mortgage insurance, prepayment of the mortgage, or a sale of the project.* * *” Either of these actions would typically terminate FHA involvement with the property, and the Flexible Subsidy loan would be repaid, in whole, at that time.

Granted by: Brian D. Montgomery, Assistant Secretary for Housing—Federal Housing Commissioner.

Date Granted: September 17, 2007.

Reason Waived: This regulatory waiver was granted to address the property's capital improvement needs. Required monthly payments will be decreased, improving cash flow at the property and will help alleviate any increases to the budget with the increased debt service. The owner proposes to pay a lump sum at the time of the refinancing and fully retire the remaining flexible subsidy debt over the new 35-year mortgage term. The project will continue to operate as affordable housing for low- and moderate-income residents until January 1, 2053.

Contact: Beverly J. Miller, Director, Office of Asset Management, Office of Housing, Department of Housing and Urban Development, 451 Seventh Street, SW., Room 6160, Washington, DC 20410-8000, telephone (202) 708-3730.

• Regulation: 24 CFR 236.725(e)(2).

Project/Activity: St. Clair Village Apartments, Belleville, Illinois, FHA Project Number 072-011NI. Permission has been requested for continuation of Rental Assistance Payments (RAP) after the payoff of the original non-insured Section 236 mortgage under a Section 236(e)(2) Decoupling transaction.

Nature of Requirement: Section 236.725 of FHA's regulations limits the term of the rental assistance contract to the term of the mortgage or 40 years from the date of the first payment made under the contract, whichever is the lesser.

Granted by: Brian D. Montgomery, Assistant Secretary for Housing—Federal Housing Commissioner.

Date Granted: July 13, 2007.

Reason Waived: This regulatory waiver was granted because the project is to be maintained as an affordable housing resource to the maturity date of the non-insured Section 236 mortgage plus an additional 5 years through the execution and recording of a Decoupling Use Agreement, and therefore provided good cause for the granting of the waiver. This waiver was predicated on the fact that the Decoupling proposal did not request an increase in the Section 236 Basic Rents, future increases will be based on budget driven project operating cost increases that will not include any new debt service costs attributable to the Decoupling transaction. Further, this waiver is predicated on the project owner entering into a Decoupling Use Restriction Agreement prescribed by the Section 236(e)(2) Decoupling program.

Contact: Beverly J. Miller, Director, Office of Asset Management, Office of Housing, Department of Housing and Urban Development, 451 Seventh Street, SW., Room 6160, Washington, DC 20410-8000, telephone (202) 708-3730.

• Regulation: 24 CFR 891.100(d).

Project/Activity: Hyde Park, St. Louis, MO, Project Number: 085-HD045/MO36-Q051-004.

Nature of Requirement: Section 891.100(d) prohibits amendment of the amount of the approved capital advance funds prior to initial closing.

Granted by: Brian D. Montgomery, Assistant Secretary for Housing—Federal Housing Commissioner.

Date Granted: July 12, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Crest View South, Sidney, NE, Project Number: 103-HD034/NE26-Q051-001.

Nature of Requirement: Section 891.100(d) prohibits amendment of the amount of the approved capital advance funds prior to initial closing.

Granted by: Brian D. Montgomery, Assistant Secretary for Housing—Federal Housing Commissioner.

Date Granted: July 17, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: La Casa De Junny, Inc., Mayaguez, PR, Project Number: 056-HD029/RQ46-Q051-004.

Nature of Requirement: Section 891.100(d) prohibits amendment of the amount of the approved capital advance funds prior to initial closing.

Granted by: Brian D. Montgomery, Assistant Secretary for Housing—Federal Housing Commissioner.

Date Granted: July 17, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: The Groves at the Woodlands, Bradford Woods, PA, Project Number: 033-HD095/PA28-Q051-003.

Nature of Requirement: Section 891.100(d) prohibits amendment of the amount of the approved capital advance funds prior to initial closing.

Granted by: Brian D. Montgomery, Assistant Secretary for Housing—Federal Housing Commissioner.

Date Granted: July 25, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Creekside Terrace, Cissna Park, IL, Project Number: 072-EE160/IL06-S051-002.

Nature of Requirement: Section 891.100(d) prohibits amendment of the amount of the approved capital advance funds prior to initial closing.

Granted by: Brian D. Montgomery, Assistant Secretary for Housing-Federal Housing Commissioner.

Date Granted: July 25, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Iowa Elderly Housing, Iowa, LA, Project Number: 064-EE201/LA48-S061-001.

Nature of Requirement: Section 891.100(d) prohibits amendment of the amount of the approved capital advance funds prior to initial closing.

Granted by: Brian D. Montgomery, Assistant Secretary for Housing-Federal Housing Commissioner.

Date Granted: August 8, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Forest Hills Senior Apartments, Forest Hills, PA, Project Number: 033-EE122/PA28-S041-004.

Nature of Requirement: Section 891.100(d) prohibits amendment of the amount of the approved capital advance funds prior to initial closing.

Granted by: Brian D. Montgomery, Assistant Secretary for Housing-Federal Housing Commissioner.

Date Granted: August 8, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 134, Washington, DC 20410-8000, telephone (202) 708-3000.

• Regulation: 24 CFR 891.100(d).

Project/Activity: Community Action Partnership, Williston, ND, Project Number: 094-HD013/ND99-Q051-001.

Nature of Requirement: Section 891.100(d) prohibits amendment of the amount of the approved capital advance funds prior to initial closing.

Granted by: Brian D. Montgomery, Assistant Secretary for Housing-Federal Housing Commissioner.

Date Granted: August 8, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Dalewood Estates Senior Housing, Inc., Albany, GA, Project Number: 061-EE125/GA06-S031-006.

Nature of Requirement: Section 891.100(d) prohibits amendment of the amount of the approved capital advance funds prior to initial closing.

Granted by: Brian D. Montgomery, Assistant Secretary for Housing-Federal Housing Commissioner.

Date Granted: August 13, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: VNA Somerville, Somerville, MA, Project Number: 023-EE204/MA06-S061-009.

Nature of Requirement: Section 891.100(d) prohibits amendment of the amount of the approved capital advance funds prior to initial closing.

Granted by: Brian D. Montgomery, Assistant Secretary for Housing-Federal Housing Commissioner.

Date Granted: August 13, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Crest View South, Sidney, NE, Project Number: 103-HD034/NE26-Q051-001.

Nature of Requirement: Section 891.100(d) prohibits amendment of the amount of the approved capital advance funds prior to initial closing.

Granted by: Brian D. Montgomery, Assistant Secretary for Housing—Federal Housing Commissioner.

Date Granted: August 14, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Friendship Living Bryant, Bryant, AR, Project Number: 082-HD088/AR37-Q051-002.

Nature of Requirement: Section 891.100(d) prohibits amendment of the amount of the approved capital advance funds prior to initial closing.

Granted by: Brian D. Montgomery, Assistant Secretary for Housing—Federal Housing Commissioner.

Date Granted: August 15, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Desert Willow, Ridgecrest, CA, Project Number: 122-HD162/CA16-Q041-001.

Nature of Requirement: Section 891.100(d) prohibits amendment of the amount of the approved capital advance funds prior to initial closing.

Granted by: Brian D. Montgomery, Assistant Secretary for Housing—Federal Housing Commissioner.

Date Granted: August 15, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: AHEPA DOP, Houston, TX, Project Number: 114-EE125/TX24-S051-002.

Nature of Requirement: Section 891.100(d) prohibits amendment of the amount of the approved capital advance funds prior to initial closing.

Granted by: Brian D. Montgomery, Assistant Secretary for Housing—Federal Housing Commissioner.

Date Granted: August 15, 2007.

Reason Waived: The project is economically designed and comparable in cost to similar projects in the area, the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: The Village, Moulton, AL, Project Number: 062-HD057/AL09-Q051-001.

Nature of Requirement: Section 891.100(d) prohibits amendment of the amount of the approved capital advance funds prior to initial closing.

Granted by: Brian D. Montgomery, Assistant Secretary for Housing—Federal Housing Commissioner.

Date Granted: August 16, 2007.

Reason Waived: The project is economically designed and comparable in cost to similar projects in the area, and the sponsor/owner exhausted all efforts to obtain additional funding from other sources.

Contact: Willie Spearmon, Director, Office of Housing Assistance and Grant dministration, Office of Housing, Department of Housing and Urban Development, 451 Seventh Street, SW., Room 6134, Washington, DC 20410-8000, telephone (202) 708-3000.

• Regulation: 24 CFR 891.100(d).

Project/Activity: The Presbyterian Home at Dover Township, Dover Township, NJ, Project Number: 035-EE050/NJ39-S051-004.

Nature of Requirement: Section 891.100(d) prohibits amendment of the amount of the approved capital advance funds prior to initial closing.

Granted by: Brian D. Montgomery, Assistant Secretary for Housing—Federal Housing Commissioner.

Date Granted: August 17, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Memphis Volunteers of America Housing, Memphis, TN, Project Number: 081-EE042/TN40-S051-002.

Nature of Requirement: Section 891.100(d) prohibits amendment of the amount of the approved capital advance funds prior to initial closing.

Granted by: Brian D. Montgomery, Assistant Secretary for Housing—Federal Housing Commissioner.

Date Granted: August 17, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Rockford Supportive Housing Development, Rockford, IL, Project Number: 071-HD150/IL06-Q051-004.

Nature of Requirement: Section 891.100(d) prohibits amendment of the amount of the approved capital advance funds prior to initial closing.

Granted by: Brian D. Montgomery, Assistant Secretary for Housing—Federal Housing Commissioner.

Date Granted: August 17, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: New Millennium Village, McGehee, AR, Project Number: 082-HD089/AR37-Q051-003.

Nature of Requirement: Section 891.100(d) prohibits amendment of the amount of the approved capital advance funds prior to initial closing.

Granted by: Brian D. Montgomery, Assistant Secretary for Housing—Federal Housing Commissioner.

Date Granted: August 20, 2007.

Reason Waived: The project is economically designed and the cost appears reasonable as there are no other four unit group homes in the area to compare costs, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Miller Park, Meridian, MS, Project Number: 065-HD040/MS26-Q051-006.

Nature of Requirement: Section 891.100(d) prohibits amendment of the amount of the approved capital advance funds prior to initial closing.

Granted by: Brian D. Montgomery, Assistant Secretary for Housing—Federal Housing Commissioner.

Date Granted: August 24, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Manteca Senior Housing II, Manteca, CA, Project Number: 136-EE080/CA30-S051-003.

Nature of Requirement: Section 891.100(d) prohibits amendment of the amount of the approved capital advance funds prior to initial closing.

Granted by: Brian D. Montgomery, Assistant Secretary for Housing-Federal Housing Commissioner.

Date Granted: August 24, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Restoration Plaza of Barlow, Barlow, OH, Project Number: 043-EE114/OH16-S051-005.

Nature of Requirement: Section 891.100(d) prohibits amendment of the amount of the approved capital advance funds prior to initial closing.

Granted by: Brian D. Montgomery, Assistant Secretary for Housing—Federal Housing Commissioner.

Date Granted: August 24, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Maine Supportive Housing, Inc., Kennebunk, ME, Project Number: 024-HD045/ME36-Q041-001.

Nature of Requirement: Section 891.100(d) prohibits amendment of the amount of the approved capital advance funds prior to initial closing.

Granted by: Brian D. Montgomery, Assistant Secretary for Housing—Federal Housing Commissioner.

Date Granted: August 24, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6143, Washington, DC 20410-8000, telephone (202) 708-3000.

• Regulation: 24 CFR 891.100(d).

Project/Activity: Bledsoe Lane, Las Vegas, NV, Project Number: 125-HD073/NV25-Q051-001.

Nature of Requirement: Section 891.100(d) prohibits amendment of the amount of the approved capital advance funds prior to initial closing.

Granted by: Brian D. Montgomery, Assistant Secretary for Housing—Federal Housing Commissioner.

Date Granted: August 28, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Burlington Disabled Housing, Burlington, WI, Project Number: 075-HD088/WI39-Q041-007.

Nature of Requirement: Section 891.100(d) prohibits amendment of the amount of the approved capital advance funds prior to initial closing.

Granted by: Brian D. Montgomery, Assistant Secretary for Housing—Federal Housing Commissioner.

Date Granted: August 30, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Washington, DC 20410-8000, telephone (202) 708-3000.

• Regulation: 24 CFR 891.100(d).

Project/Activity: Quaker Estates III, Portsmouth, RI, Project Number: 016-EE058/RI43-S051-001.

Nature of Requirement: Section 891.100(d) prohibits amendment of the amount of the approved capital advance funds prior to initial closing.

Granted by: Brian D. Montgomery, Assistant Secretary for Housing—Federal Housing Commissioner.

Date Granted: August 30, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: NCR of Alief II, Houston, TX, Project Number: 114-EE120/TX24-S041-008.

Nature of Requirement: Section 891.100(d) prohibits amendment of the amount of the approved capital advance funds prior to initial closing.

Granted by: Brian D. Montgomery, Assistant Secretary for Housing—Federal Housing Commissioner.

Date Granted: September 4, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: ASI Fort Collins, Incorporated, Fort Collins, CO, Project Number: 101-HD041/CO99-Q051-002.

Nature of Requirement: Section 891.100(d) prohibits amendment of the amount of the approved capital advance funds prior to initial closing.

Granted by: Brian D. Montgomery, Assistant Secretary for Housing—Federal Housing Commissioner.

Date Granted: September 4, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Aaniyak Senior Housing, Anaktuvuk Pass, AK, Project Number: 176-EE030/AK06-S021-005.

Nature of Requirement: Section 891.100(d) prohibits amendment of the amount of the approved capital advance funds prior to initial closing.

Granted by: Brian D. Montgomery, Assistant Secretary for Housing-Federal Housing Commissioner.

Date Granted: September 7, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Kaktovik Senior Housing, Kaktovik, AK, Project Number: 176-EE032/AK06-S021-007.

Nature of Requirement: Section 891.100(d) prohibits amendment of the amount of the approved capital advance funds prior to initial closing.

Granted by: Brian D. Montgomery, Assistant Secretary for Housing-Federal Housing Commissioner.

Date Granted: September 7, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Utuqqanaaqagvik Senior Housing, Nisqsut, AK, Project Number: 176-EE033/AK06-S021-008.

Nature of Requirement: Section 891.100(d) prohibits amendment of the amount of the approved capital advance funds prior to initial closing.

Granted by: Brian D. Montgomery, Assistant Secretary for Housing-Federal Housing Commissioner.

Date Granted: September 7, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Olgonikgum Uttuganaknich Senior Housing, Wainwright, AK, Project Number: 176-EE031/AK06-S021-006.

Nature of Requirement: Section 891.100(d) prohibits amendment of the amount of the approved capital advance funds prior to initial closing.

Granted by: Brian D. Montgomery, Assistant Secretary for Housing-Federal Housing Commissioner.

Date Granted: September 7, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Bayview Senior Apartments, LaPorte, TX, Project Number: 114-EE133/TX24-S061-004.

Nature of Requirement: Section 891.100(d) prohibits amendment of the amount of the approved capital advance funds prior to initial closing.

Granted by: Brian D. Montgomery, Assistant Secretary for Housing-Federal Housing Commissioner.

Date Granted: September 7, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Marshfield Disabled Housing, Marshfield, WI, Project Number: 075-HD090/WI39-Q051-002.

Nature of Requirement: Section 891.100(d) prohibits amendment of the amount of the approved capital advance funds prior to initial closing.

Granted by: Brian D. Montgomery, Assistant Secretary for Housing-Federal Housing Commissioner.

Date Granted: September 7, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Central Wisconsin Housing, Wisconsin Rapids, WI, Project Number: 075-HD092/WI39-Q061-002.

Nature of Requirement: Section 891.100(d) prohibits amendment of the amount of the approved capital advance funds prior to initial closing.

Granted by: Brian D. Montgomery, Assistant Secretary for Housing-Federal Housing Commissioner.

Date Granted: September 7, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: New Life Estates, Cranston, RI, Project Number: 016-HD045/RI43-Q031-004.

Nature of Requirement: Section 891.100(d) prohibits amendment of the amount of the approved capital advance funds prior to initial closing.

Granted by: Brian D. Montgomery, Assistant Secretary for Housing-Federal Housing Commissioner.

Date Granted: September 13, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: A. Porters Haven, Vinton, VA, Project Number: 051-EE110/VA36-S051-003.

Nature of Requirement: Section 891.100(d) prohibits amendment of the amount of the approved capital advance funds prior to initial closing.

Granted by: Brian D. Montgomery, Assistant Secretary for Housing-Federal Housing Commissioner.

Date Granted: September 13, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Tikigaqmiut Senior Housing, Point Hope, AK, Project Number: 176-EE029/AK06-S021-004.

Nature of Requirement: Section 891.100(d) prohibits amendment of the amount of the approved capital advance funds prior to initial closing.

Granted by: Brian D. Montgomery, Assistant Secretary for Housing-Federal Housing Commissioner.

Date Granted: September 14, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Fellowship Commons Westville, New Haven, CT, Project Number: 017-HD037/CT26-Q051-002.

Nature of Requirement: Section 891.100(d) prohibits amendment of the amount of the approved capital advance funds prior to initial closing.

Granted by: Brian D. Montgomery, Assistant Secretary for Housing-Federal Housing Commissioner.

Date Granted: September 14, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Hyde Park, St. Louis, MO, Project Number: 085-HD045/MO36-Q051-004.

Nature of Requirement: Section 891.100(d) prohibits amendment of the amount of the approved capital advance funds prior to initial closing.

Granted by: Brian D. Montgomery, Assistant Secretary for Housing-Federal Housing Commissioner.

Date Granted: September 18, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Sartell Supportive Housing, Sartell, MN, Project Number: 092-HD068/MN46-Q061-001.

Nature of Requirement: Section 891.100(d) prohibits amendment of the amount of the approved capital advance funds prior to initial closing.

Granted by: Brian D. Montgomery, Assistant Secretary for Housing—Federal Housing Commissioner.

Date Granted: September 19, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Options Supported Housing Project XI, Selden, NY, Project Number: 012-HD134/NY36-Q061-004.

Nature of Requirement: Section 891.100(d) prohibits amendment of the amount of the approved capital advance funds prior to initial closing.

Granted by: Brian D. Montgomery, Assistant Secretary for Housing—Federal Housing Commissioner.

Date Granted: September 19, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Albert Lea Senior Housing, Albert Lea, MN, Project Number: 092-EE122/MN46-S061-008.

Nature of Requirement: Section 891.100(d) prohibits amendment of the amount of the approved capital advance funds prior to initial closing.

Granted by: Brian D. Montgomery, Assistant Secretary for Housing—Federal Housing Commissioner.

Date Granted: September 20, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Esther Gitlow Towers II, Suffern, NY, Project Number: 012-EE328/NY36-S031-001.

Nature of Requirement: Section 891.100(d) prohibits amendment of the amount of the approved capital advance funds prior to initial closing.

Granted by: Brian D. Montgomery, Assistant Secretary for Housing—Federal Housing Commissioner.

Date Granted: September 20, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Good Shepherd Village, Kansas City, MO, Project Number: 084-HD053/MO16-Q051-002.

Nature of Requirement: Section 891.100(d) prohibits amendment of the amount of the approved capital advance funds prior to initial closing.

Granted by: Brian D. Montgomery, Assistant Secretary for Housing—Federal Housing Commissioner.

Date Granted: September 21, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Valle del Desierto, Somerton, AZ, Project Number: 123-EE101/AZ20-S051-006.

Nature of Requirement: Section 891.100(d) prohibits amendment of the amount of the approved capital advance funds prior to initial closing.

Granted by: Brian D. Montgomery, Assistant Secretary for Housing—Federal Housing Commissioner.

Date Granted: September 21, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Options Supported Housing Project XI, Patchogue, NY, Project Number: 012-HD133/NY36-Q061-003.

Nature of Requirement: Section 891.100(d) prohibits amendment of the amount of the approved capital advance funds prior to initial closing.

Granted by: Brian D. Montgomery, Assistant Secretary for Housing—Federal Housing Commissioner.

Date Granted: September, 24, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Reba Brown Senior Residence, Philadelphia, PA, Project Number: 034-EE141/PA26-S051-001.

Nature of Requirement: Section 891.100(d) prohibits amendment of the amount of the approved capital advance funds prior to initial closing.

Granted by: Brian D. Montgomery, Assistant Secretary for Housing—Federal Housing Commissioner.

Date Granted: September 24, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Tikigaqmiut Senior Housing, Point Hope, AK, Project Number: 176-EE029/AK06-S021-004.

Nature of Requirement: Section 891.100(d) prohibits amendment of the amount of the approved capital advance funds prior to initial closing.

Granted by: Brian D. Montgomery, Assistant Secretary for Housing—Federal Housing Commissioner.

Date Granted: September 24, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Jawonio Residential Opportunities III, New City, NY, Project Number: 012-HD119/NY36-Q031-004.

Nature of Requirement: Section 891.100(d) prohibits amendment of the amount of the approved capital advance funds prior to initial closing.

Granted by: Brian D. Montgomery, Assistant Secretary for Housing—Federal Housing Commissioner.

Date Granted: September 27, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: HOME, Incorporated, Syracuse, NY, Project Number: 014-HD127/NY06-Q051-001.

Nature of Requirement: Section 891.100(d) prohibits amendment of the amount of the approved capital advance funds prior to initial closing.

Granted by: Brian D. Montgomery, Assistant Secretary for Housing—Federal Housing Commissioner.

Date Granted: September 27, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Webb Avenue Senior Housing, Bronx, NY, Project Number: 012-EE335/NY36-S051-001.

Nature of Requirement: Section 891.100(d) prohibits amendment of the amount of the approved capital advance funds prior to initial closing.

Granted by: Brian D. Montgomery, Assistant Secretary for Housing—Federal Housing Commissioner.

Date Granted: September 27, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.100(d).

Project/Activity: Saugus/GLSS Housing Initiative. Saugus, MS, Project Number: 023-EE175/MA06-S041-010.

Nature of Requirement: Section 891.100(d) prohibits amendment of the amount of the approved capital advance funds prior to initial closing.

Granted by: Brian D. Montgomery, Assistant Secretary for Housing—Federal Housing Commissioner.

Date Granted: September 28, 2007.

Reason Waived: The project is economically designed and comparable in cost to similar projects in the area, and the sponsor/owner exhausted all efforts to obtain additional funding from other sources.

Contact: Willie Spearmon, Director, Office of Housing Assistance and Grant Administration, Office of Housing, Department of Housing and Urban Development, 451 Seventh Street, SW., Room 6134, Washington, DC 20410-8000, telephone (202) 708-3000.

• Regulation: 24 CFR 891.130.

Project/Activity: Harry and Jeanette Weinberg Nanaikeola Senior Apartments, Project Number: 140-EE019/HI10-S991-001.

Nature of Requirement: Section 891.130 prohibits officers and board members of the project's sponsor and owner from having any financial interest in any contract with the owner or any firm which has a contract with the owner. It also prohibits an identity of interest between the sponsor or owner with development team members or between development team members until two years after final closing.

Granted by: Brian D. Montgomery, Assistant Secretary for Housing—Federal Housing Commissioner.

Date Granted: July 11, 2007.

Reason Waived: The leasing of the site from the Village Corporation, to which all of the directors of the owner have an interest acquired under the Indian Claims Settlement Act, was approved because it is being leased for $1 and there is a lack of suitable sites in the community. The general contractor, of which the Village Corporation owns 51 per cent of the shares, was approved because of the specialized experience of the contractor for constructing in the community, the benefit to the community in providing employment opportunities for the local labor force, and the isolated location of the community.

Contact: Willie Spearmon, Director, Office of Housing Assistance and Grant Administration, Office of Housing, Department of Housing and Urban Development, 451 Seventh Street, SW., Room 6134, Washington, DC 20410-8000, telephone (202) 708-3000.

• Regulation: 24 CFR 891.130.

Project/Activity: Hickory Estates, Hermitage, MO, Project Number: 084-EE062/MO16-S051-001.

Nature of Requirement: Section 891.130 prohibits officers and board members of the project's sponsor and owner from having any financial interest in any contract with the owner or any firm which has a contract with the owner. It also prohibits an identity of interest between the sponsor or owner with development team members or between development team members until two years after final closing.

Granted by: Brian D. Montgomery, Assistant Secretary for Housing—Federal Housing Commissioner.

Date Granted: July 25, 2007.

Reason Waived: The Department no longer considers it a prohibited relationship involving a land sale transaction between the sponsor and its affiliated owner. The regulations are to be revised in the future to permit such a transaction.

Contact: Willie Spearmon, Director, Office of Housing Assistance and Grant Administration, Office of Housing, Department of Housing and Urban Development, 451 Seventh Street, SW., Room 6134, Washington, DC 20410-8000, telephone (202) 708-3000.

• Regulation: 24 CFR 891.130.

Project/Activity: Good Shepherd Village, Kansas City, MO, Project Number: 084-HD053/MO16-Q051-002.

Nature of Requirement: Section 891.130(a) prohibits officers and board members of the project and owner from having any financial interest in any contract with the owner or any firm which has a contract with the owner. It also prohibits an identity of interest between the sponsor or owner with development team members or between development team members until two years after final closing.

Granted by: Brian D. Montgomery, Assistant Secretary for Housing—Federal Housing Commissioner.

Date Granted: September 21, 2007.

Reason Waived: The Department no longer considers it a prohibited relationship involving a land sale transaction between the sponsor and its affiliated owner. The regulations are to be revised in the future to permit such a transaction.

Contact: Willie Spearmon, Director, Office of Housing Assistance and Grant Administration, Office of Housing, Department of Housing and Urban Development, 451 Seventh Street, SW., Room 6134, Washington, DC 20410-8000, telephone (202) 708-3000.

• Regulation: 24 CFR 891.100(d) and 24 CFR 891.165.

Project/Activity: Harvest Pointe Senior Housing, Loveland, CO, Project Number: 101-EE062/CO99-S041-002.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: August 9, 2007.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street, SW., Room 6134, Washington DC 20410-8000, telephone (202) 708-3000.

• Regulation: 24 CFR 891.100(d) and 24 CFR 891.165.

Project/Activity: Planning Office of Urban Affairs, Lowell, MA, Project Number: 023-EE164/MA06-S021-015.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: August 13, 2007.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street, SW., Room 6134, Washington DC 20410-8000, telephone (202) 708-3000.

• Regulation: 24 CFR 891.100(d) and 24 CFR 891.165.

Project/Activity: Esther Gitlow Towers II, Suffern, NY, Project Number: 012-EE328/NY36-S031-001.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: August 24, 2007.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street, SW., Room 6134, Washington DC 20410-8000, telephone (202) 708-3000.

• Regulation: 24 CFR 891.100(d) and 24 CFR 891.165.

Project/Activity: Vernon Street Residence, Framingham, MA, Project Number: 023-HD222/MA06-Q051-004.

Nature of Requirement: Section 891.100(d) prohibits amendment of the amount of the approved capital advance funds prior to initial closing. Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 13, 2007.

Reason Waived: The project is economically designed and comparable to similar projects in the area, and the sponsor/owner exhausted all efforts to obtain additional funding from other sources. The sponsor/owner required additional time to prepare for initial closing.

Contact: Willie Spearmon, Director, Office of Housing Assistance and Grant Administration, Office of Housing, Department of Housing and Urban Development, 451 Seventh Street, SW., Room 6134, Washington DC 20410-8000, telephone (202) 708-3000.

• Regulation: 24 CFR 891.165.

Project/Activity: Laurel Place, West Hollywood, CA, Project Number: 122-EE187/CA16-S031-003.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: August 17, 2007.

Reason Waived: The sponsor/owner needed additional time to resolve litigation proceeding and for the project to be initially closed.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Woodside Village, Toledo, OH, Project Number: 042-HD112/OH12-Q031-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 7, 2007.

Reason Waived: The sponsor/owner needed additional time to redesign the scope of work and to reduce costs of the project.

Contact: Willie Spearmon, Director, Office of Housing Assistance and Grant Administration, Office of Housing, Department of Housing and Urban Development, 451 Seventh Street, SW., Room 6134, Washington, DC 20410-8000, telephone (202) 708-3000.

• Regulation: 24 CFR 891.165.

Project/Activity: Maine Supportive Housing, Incorporated, Kennebunk, ME, Project Number: 024-HD045/ME36-Q041-001.

Nature of Requirement: Section 891.165 provides that the duration of the fund reservation of the capital advance is 18 months from the date of issuance with limited exceptions up to 24 months, as approved by HUD on a case-by-case basis.

Granted by: Brian D. Montgomery, Assistant Secretary for Housing—Federal Housing Commissioner.

Date Granted: September 7, 2007.

Reason Waived: The sponsor/owner needed additional time for the firm commitment to be issued and for the project to be initially closed.

Contact: Willie Spearmon, Director, Office of Housing Assistance and Grant Administration, Office of Housing Department of Housing and Urban Development, 451 Seventh Street, SW., Room 6134, Washington, DC 20410-8000, telephone (202) 708-3000.

• Regulation: 24 CFR 891.205.

Project/Activity: Wild Flower Terrace, Alliance, NE, Project Number: 103-EE035/NE26-S051-002.

Nature of Requirement: Section 891.205 requires Section 202 project owners to have tax exemption status under section 501(c)(3) or (c)(4) of the Internal Revenue Code.

Granted by: Brian D. Montgomery, Assistant Secretary for Housing—Federal Housing Commissioner.

Date Granted: July 25, 2007.

Reason Waived: The required tax-exemption ruling from Internal Revenue Service (IRS) was to be issued, but not in time for the scheduled initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: Willow Creek Apartments, LeMars, IA, Project Number: 074-EE048/IA05-S051-001.

Nature of Requirement: Section 891.205 requires Section 202 project owners to have tax exemption status under section 501(c)(3) or (c)(4) of the Internal Revenue Code.

Granted by: Brian D. Montgomery, Assistant Secretary for Housing—Federal Housing Commissioner.

Date Granted: July 30, 2007.

Reason Waived: The required tax-exemption ruling from IRS is to be issued, but not in time for the scheduled initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: Murphy Lake Apartments, Warrensburg, MO, Project Number: 084-EE065/MO16-S051-004.

Nature of Requirement: Section 891.205 requires Section 202 project owners to have tax exemption status under Section 501(c)(3) or (c)(4) of the Internal Revenue Code.

Granted by: Brian D. Montgomery, Assistant Secretary for Housing—Federal Housing Commissioner.

Date Granted: August 15, 2007.

Reason Waived: The required tax-exemption ruling from IRS is to be issued, but not in time for the scheduled initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: Bayview Senior Apartments, La Porte, TX, Project Number: 114-EE133/TX24-S061-004.

Nature of Requirement: Section 891.205 requires Section 202 project owners to have tax exemption status under Section 501(c)(3) or (c)(4) of the Internal Revenue Code.

Granted by: Brian D. Montgomery, Assistant Secretary for Housing—Federal Housing Commissioner.

Date Granted: September 4, 2007.

Reason Waived: The required tax-exemption ruling from IRS was to be issued, but not in time for the scheduled initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: Luther House IV, West Grove, PA, Project Number: 034-EE150/PA26-S061-002.

Nature of Requirement: Section 891.205 requires Section 202 project owners to have tax exemption status under section 501(c)(3) or (c)(4) of the Internal Revenue Code.

Granted by: Brian D. Montgomery, Assistant Secretary for Housing—Federal Housing Commissioner.

Date Granted: September 21, 2007.

Reason Waived: The required tax-exemption ruling from IRS was to be issued, but not in time for the scheduled initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: Booth Manor II, Philadelphia, PA, Project Number: 034-EE142/PA26-S051-002.

Nature of Requirement: Section 891.205 requires Section 202 project owners to have tax exemption status under section 501(c)(3) or (c)(4) of the Internal Revenue Code.

Granted by: Brian D. Montgomery, Assistant Secretary for Housing—Federal Housing Commissioner.

Date Granted: September 24, 2007.

Reason Waived: The required tax-exemption ruling from IRS is to be issued, but not in time for the scheduled initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.205.

Project/Activity: Albert Lea Senior Housing, Albert Lea, MN, Project Number: 092-EE122/MN46-S061-008.

Nature of Requirement: Section 891.205 requires Section 202 project owners to have tax exemption status under section 501(c)(3) or (c)(4) of the Internal Revenue Code.

Granted by: Brian D. Montgomery, Assistant Secretary for Housing—Federal Housing Commissioner.

Date Granted: September 24, 2007.

Reason Waived: The required tax-exemption ruling from IRS is to be issued, but not in time for the scheduled initial closing of the project.

Contact: Willie Spearmon, Director, Office of Housing Assistance and Grant Administration, Office of Housing, Department of Housing and Urban Development, 451 Seventh Street, SW., Room 6134, Washington, DC 20410-8000, telephone (202) 708-3000.

• Regulation: 24 CFR 891.305.

Project/Activity: Good Shepherd Village, Kansas City, MO, Project Number: 084-HD053/MO16-Q051-002.

Nature of Requirement: Section 891.305 requires Section 811 project owners to have tax-exempt status under Section 501(c)(3) of the Internal Revenue Code.

Granted by: Brian D. Montgomery, Assistant Secretary for Housing—Federal Housing Commissioner.

Date Granted: August 24, 2007.

Reason Waived: The required tax-exemption ruling from IRS is to be issued, but not in time for the scheduled initial closing of the project.

Contact: Willie Spearmon, Director, Office of Housing Assistance and Grant Administration, Office of Housing, Department of Housing and Urban Development, 451 Seventh Street, SW., Room 6134, Washington, DC 20410-8000, telephone (202) 798-3000.

• Regulation: 24 CFR 891.305.

Project/Activity: Sartell Supportive Housing, Sartell, MN, Project Number: 092-HD068?MN46-Q061-001.

Nature of Requirement: Section 891.305 requires Section 811 project owners to have tax-exempt status under Section 501(c)(3) of the Internal Revenue Code.

Granted by: Brian D. Montgomery, Assistant Secretary for Housing—Federal Housing Commissioner.

Date Granted: September 20, 2007.

Reason Waived: The required tax-exemption ruling from IRS is to be issued, but not in time for the scheduled initial closing of the project.

Contact: Willie Spearmon, Director, Office of Housing Assistance and Grant Administration, Office of Housing, Department of Housing and Urban Development, 451 Seventh Street, SW., Room 6134, Washington, DC 20410-8000, telephone (202) 798-3000.

• Regulation: 24 CFR 891.310(b)(1).

Project/Activity: Maple House, Harrison, NY, Project Number: 012-HD104/NY36-Q011-001.

Nature of Requirement: Section 891.310(b)(1) requires that all entrances, common areas, units to be occupied by resident staff, and amenities must be readily accessible to and usable by persons with disabilities.

Granted by: Brian D. Montgomery, Assistant Secretary for Housing—Federal Housing Commissioner.

Date Granted: July 12, 2007.

Reason Waived: The design of the existing structure is such that it would not be economically or architecturally feasible to make the group home accessible. However, 50 percent of the group home split from the project will be feasible as well as over 25 percent of the sponsor's other units are accessible.

Contact: Willie Spearmon, Director, Office of Housing Assistance and Grant Administration, Office of Housing, Department of Housing and Urban Development, 451 Seventh Street, SW., Room 6134, Washington, DC 20410-8000, telephone (202) 798-3000.

• Regulation: 24 CFR 891.310(b)(1) and 891.310(b)(2).

Project/Activity: Options Supported Housing Project XI, Selen, NY, Project Number: 012-HD134/NY36-Q061-004.

Nature of Requirement: Section 891.310(b) requires that all entrances, common areas, units to be occupied by resident staff, and amenities must be readily accessible to and usable by persons with disabilities. Section 891.310(b)(2) requires that a minimum of 10 percent of all bedrooms and bathrooms in a group home for the chronically mentally ill be accessible or adaptable for persons with disabilities.

Granted by: Brian D. Montgomery, Assistant Secretary for Housing—Federal Housing Commissioner.

Date Granted: September 24, 2007.

Reason Waived: The design of the three of the four existing single family homes is such that it would not be economically or architecturally feasible to make all four group homes accessible. One group home will be accessible and if additional accessible units are needed, the sponsor has other permanent housing projects which are 23 percent accessible.

Contact: Willie Spearmon, Director, Office of Housing Assistance and Grant Administration, Office of Housing, Department of Housing and Urban Development, 451 Seventh Street, SW., Room 6134, Washington, DC 20410-8000, telephone (202) 798-3000.

• Regulation: 24 CFR 891.310(b)(1) and 891.310(b)(2).

Project/Activity: Options Supported Housing Project XII, Patchogue, NY, Project Number: 012-HD133/NY36-Q061-003.

Nature of Requirement: Section 891.310(b) requires that all entrances, common areas, units to be occupied by resident staff, and amenities must be readily accessible to and usable by persons with disabilities. Section 891.310(b)(2) requires that a minimum of 10 percent of all bedrooms and bathrooms in a group home for the chronically mentally ill be accessible or adaptable for persons with disabilities.

Granted by: Brian D. Montgomery, Assistant Secretary for Housing—Federal Housing Commissioner.

Date Granted: September 24, 2007.

Reason Waived: The design of the three of the four existing single family homes is such that it would not be economically or architecturally feasible to make all four group homes accessible. One group home will be accessible and if additional accessible units are needed, the sponsor has other permanent housing projects which are 23 percent accessible.

Contact: Willie Spearmon, Director, Office of Housing Assistance and Grant Administration, Office of Housing, Department of Housing and Urban Development, 451 Seventh Street, SW., Room 6134, Washington, DC 20410-8000, telephone (202) 798-3000.

• Regulation: 24 CFR 891.401(c).

Project/Activity: Biimaadiiziiwiin, White Earth, Minnesota, FHA Project Number 092-EE086. This project continues to experience vacancy problems and is requesting that the regulatory age and income waiver be extended for one year.

Nature of Requirement: HUD regulations at 24 CFR part 891 requires occupancy to be limited to very low income (VLI) elderly persons (i.e., households composed of one or more persons at least one of whom is 62 years of age at the time of initial occupancy). These regulations also require that an owner is to determine the eligibility in selecting tenants.

Granted by: Brian D. Montgomery, Assistant Secretary for Housing—Federal Housing Commissioner.

Date Granted: August 7, 2007.

Reason Waived: This property is located on an Indian Reservation where there is insufficient demand for very-low income housing. A previous waiver was granted for one year; however, the project continued to experience severe vacancy problems. It was determined that an extension of the waiver would allow the project to operate successfully and achieve full occupancy. Additionally, it would stabilize the project's current financial status and prevent foreclosure.

Contact: Beverly J. Miller, Director, Office of Asset Management, Office of Housing, Department of Housing and Urban Development, 451 Seventh Street, SW., Room 6160, Washington, DC 20410-7000, telephone (202) 708-3730.

• Regulation: 24 CFR 891.410(c).

Project/Activity: Fairview Senior Housing, Warden, Washington, FHA Project Number 171-EE009. The project is experiencing severe vacancy problems and has requested waiver of the regulation concerning determination of eligibility and selection of tenants.

Nature of Requirement: HUD regulations at 24 CFR part 891 requires occupancy to be limited to very low income (VLI) elderly persons (i.e., households composed of one or more persons at least one of whom is 62 years of age at the time of initial occupancy). These regulations also require that an owner is to determine the eligibility in selecting tenants.

Granted by: Brian D. Montgomery, Assistant Secretary for Housing—Federal Housing Commissioner.

Date Granted: August 24, 2007.

Reason Waived: A waiver of this requirement was granted to provide the management agent freedom to offer units to applicants between 55-62 years of age and allow applicants to instead meet the low-income eligibility requirement. Providing this waiver will target units to a wider audience and allow the project to obtain full vacancy and have sufficient income to sustain its operations.

Contact: Beverly J. Miller, Director, Office of Asset Management, Office of Housing, Department of Housing and Urban Development, 451 Seventh Street, SW., Room 6160, Washington, DC 20410-7000, telephone (202) 708-3730.

• Regulation: 24 CFR 891.410(c).

Project/Activity: Wheat Ridge Heights, Winfield, Kansas, FHA Project Number 102-EE027. The project is experiencing low occupancy levels which will not support operations of the project. Waiver of the regulation concerning determination of eligibility and selection of tenants will allow outreach to a wider audience and assist in renting up vacant units.

Nature of Requirement: HUD regulations at 24 CFR part 891 requires occupancy to be limited to very low income (VLI) elderly persons (i.e., households composed of one or more persons at least one of whom is 62 years of age at the time of initial occupancy). These regulations also require that an owner is to determine the eligibility in selecting tenants.

Granted by: Brian D. Montgomery, Assistant Secretary for Housing—Federal Housing Commissioner.

Date Granted: September 4, 2007.

Reason Waived: This regulatory waiver was granted because the current occupancy level at the project will not support its operation. A waiver of the regulations governing determination of eligibility and selection of tenants was granted. This waiver will allow the owner additional flexibility in attempting to rent vacant units and perhaps start a waiting list, helping to alleviate the occupancy and financial problems the property is experiencing.

Contact: Beverly J. Miller, Director, Office of Asset Management, Office of Housing, Department of Housing and Urban Development, 451 Seventh Street, SW., Room 6160, Washington, DC 20410-7000, telephone (202) 708-3730.

• Regulation: 24 CFR 891.410(c).

Project/Activity: North Main Manor, Osceola, Iowa. FHA Project Number 074-EE040. The current occupancy level at the project will not support its continued operation.

Nature of Requirement: HUD regulations at 24 CFR part 891 requires occupancy to be limited to very low income (VLI) elderly persons (i.e., households composed of one or more persons at least one of whom is 62 years of age at the time of initial occupancy). These regulations also require that an owner is to determine the eligibility in selecting tenants.

Granted by: Brian D. Montgomery, Assistant Secretary for Housing—Federal Housing Commissioner.

Date Granted: September 4, 2007.

Reason Waived: This regulatory waiver was granted due to the project's inability to achieve sustaining occupancy since initial rent-up which began January 1, 2005. Permission was requested to admit 6 over-income applicants between the 51-80 percent of the area median for a one year period, with priority at all times to income-qualified applicants. All reasonable marketing efforts, including advertising in newspapers and shoppers in and around Osceola, Iowa, contacting all area agencies serving the elderly, marketing outside the county, distributing flyers in businesses serving elderly clientele, housing needs cannot be met. This waiver will assist in alleviating the current occupancy and financial problems the project is currently experiencing.

Contact: Beverly J. Miller, Director, Office of Asset Management, Office of Housing, Department of Housing and Urban Development, 451 Seventh Street, SW., Room 6160, Washington, DC 20410-7000, telephone (202) 708-3730.

• Regulation: 24 CFR 891.830(b)

Project/Activity: Wade Chateau Apartments, Cleveland, OH, Project Number: 042-EE168/OH12-S041-004.

Nature of Requirement: Section 891.830(b) requires that capital advance funds be drawn down only in approved ratio to other funds, in accordance with a drawdown schedule approved by HUD.

Granted by: Brian D. Montgomery, Assistant Secretary for Housing—Federal Housing Commissioner.

Date Granted: August 24, 2007.

Reason Waived: In order to to limit the out-of-pocket interest costs of the mixed-finance owner, it was determined that the waiver would permit the capital advance funds to be drawn down using a different mechanism, as approved by HUD, than a pro rata basis. With this approval, the mixed-finance owner would be able to keep the undisbursed bond proceeds invested and the interest earned on the investment would be used to offset the interest that is accruing on the tax-exempt bonds, thereby reducing the cost to develop the project.

Contact: Willie Spearmon, Director, Office of Housing Assistance and Grant Administration, Office of Housing, Department of Housing and Urban Development, 451 Seventh Street, SW., Room 6134, Washington, DC 20410-8000, telephone (202) 798-3000.

• Regulation: 24 CFR 891.830(b) and 24 CFR 891.830(c)(4)

Project/Activity: Casa Grande Senior Apartments, Petaluma, CA, Project Number: 121-EE196/CA39-S061-008.

Nature of Requirement: Section 891.830(b) requires that capital advance funds be drawn down only in approved ratio to other funds, in accordance with a drawdown schedule approved by HUD. Section 891.830(c)(4) prohibits the capital advance funds from paying off bridge or construction financing, or repaying or collateralizing bonds.

Granted by: Brian D. Montgomery, Assistant Secretary for Housing—Federal Housing Commissioner.

Date Granted: August 30, 2007.

Reason Waived: In order to not delay the construction of this mixed finance project, the waiver was granted to permit the capital advance funds to be drawn down using a different mechanism, as approved by HUD, other than a pro rata basis. However, the capital advance funds would not be drawn down any faster than a pro rata disbursement basis would have permitted. It was determined that the waiver would also permit capital advance funds to be used to pay off that portion of a bridge or construction financing, or repaying a portion of bonds that strictly relate to capital advance eligible costs. It was agreed that the costs would be documented in the owner's audited cost certification and subsequently approved by the Program Center as capital advance eligible.

Contact: Willie Spearmon, Director, Office of Housing Assistance and Grant Administration, Office of Housing, Department of Housing and Urban Development, 451 Seventh Street, SW., Room 6134, Washington, DC 20410-8000, telephone (202) 798-3000.

III. Regulatory Waivers Granted by the Office of Public and Indian Housing

For further information about the following regulatory waivers, please see the name of the contact person that immediately follows the description of the waiver granted.

• Regulation: 24 CFR 5.801.

Project/Activity: New York City Department of Housing Preservation and Development, (NY110), New York, NY.

Nature of Requirement: HUD's regulation at 24 CFR 5.801 establishes certain reporting compliance dates. The audited financial statements are required to be submitted no later than 9 months after the housing authority's fiscal year end (FYE), in accordance with the Single Audit Act and OMB Circular A-133.

Granted By: Orlando J. Cabrera, Assistant Secretary for Public and Indian Housing.

Date Granted: July 6, 2007.

Reason Waived: The New York City Department of Housing Preservation and Development (HA) was granted a waiver of the audited financial reporting requirements under the Section 8 Program for FYE December 31, 2006, for the following reasons: (1) the HA is under the single audit requirements of the Office of Management and Budget A-133 and does not conduct a separate audit; and (2) the Section 8 Program is funded on a January 1 to December 31 basis and the city's fiscal year is from July 1 to June 30. Consequently, the single audit report would not be available until 9 months after June 30. The circumstances surrounding the waiver were unusual and beyond the HA's control.

Contact: Myra E. Newbill, Acting Program Manager, NASS, Real Estate Assessment Center, Office of Public and Indian Housing, Department of Housing and Urban Development, 550 12th Street, SW., Suite 100, Washington, DC 20410, telephone (202) 475-8988.

• Regulation: 24 CFR 5.801.

Project/Activity: State of New Jersey, Department of Community Affairs (NJ912), Trenton, NJ.

Nature of Requirement: HUD's regulation at 24 CFR 5.801 establishes certain reporting compliance dates. The audited financial statements are required to be submitted no later than 9 months after the housing authority's fiscal year end (FYE), in accordance with the Single Audit Act and OMB Circular A-133.

Granted By: Orlando J. Cabrera, Assistant Secretary for Public and Indian Housing.

Date Granted: September 8, 2007.

Reason Waived: The State of New Jersey, Department of Community Affairs (HA), a Section 8 only entity, was granted a waiver of the audited financial reporting requirements under the Section 8 Program for FYE June 30, 2006. The HA is a component of the state government, and is subject to the single audit. The New Jersey Office of Management and Budget engaged the auditor to perform the single audit for the state of New Jersey. However, because the Housing Choice Voucher (HCV) Program is not considered a major fund, the HCV program was not tested nor was the Financial Data Schedule subject to review by the auditor. The HA was required to secure a program specific audit for FYE June 30, 2007.

Contact: Myra E. Newbill, Acting Program Manager, NASS, Real Estate Assessment Center, Office of Public and Indian Housing, Department of Housing and Urban Development, 550 12th Street, SW., Suite 100, Washington, DC 20410, telephone (202) 475-8988.

• Regulation: 24 CFR 5.801.

Project/Activity: Pittsburg Housing Authority (KS149), Pittsburg, KS.

Nature of Requirement: HUD's regulation at 24 CFR 5.801 establishes certain reporting compliance dates. The audited financial statements are required to be submitted no later than 9 months after the housing authority's fiscal year end (FYE), in accordance with the Single Audit Act and OMB Circular A-133.

Granted By: Orlando J. Cabrera, Assistant Secretary for Public and Indian Housing.

Date Granted: August 29, 2007.

Reason Waived: The Pittsburg Housing Authority (HA) was granted a waiver of the audited financial reporting deadline of June 30, 2007, under the Section 8 Program for FYE September 30, 2006. The waiver granted a new submission deadline of September 30, 2007, because the HA's audit is included with the City of Pittsburg whose FYE is December 31.

Contact: Myra E. Newbill, Acting Program Manager, NASS, Real Estate Assessment Center, Office of Public and Indian Housing, Department of Housing and Urban Development, 550 12th Street, SW., Suite 100, Washington, DC 20410, telephone (202) 475-8988.

• Regulation: 24 CFR 902.20.

Project/Activity: Housing Authority of the City of Wisconsin Rapids (WI068), Wisconsin Rapids, WI.

Nature of Requirement: Section 902.20 is part of the regulations that implement HUD's Public Housing Assessment System (PHAS) and § 902.20 addresses the physical condition indicator of PHAS, which is one of four indicators examined of a public housing agency's operations. The purpose of the physical condition indicator is to determine whether a housing authority (HA) is meeting the standard of decent, safe, sanitary, and in good repair. The Real Estate Assessment Center (REAC) provides for an independent physical inspection of a HA's property of properties that includes a statistically valid sample of the units.

Granted By: Orlando J. Cabrera, Assistant Secretary for Public and Indian Housing.

Date Granted: September 17, 2007.

Reason Waived: The HA received a waiver of the physical inspections for fiscal year ending (FYE) December 31, 2006, because of damage caused by a hail storm and the repairs are not scheduled to be completed until December 2007. No inspections will be conducted for fiscal year 2006, but will resume for FYE December 31, 2007.

Contact: Myra E. Newbill, Acting Program Manager, NASS, Real Estate Assessment Center, Office of Public and Indian Housing, Department of Housing and Urban Development, 550 12th Street, SW., Suite 100, Washington, DC 20410, telephone (202) 475-8988.

• Regulation: 24 CFR 902.20, 902.40, and 902.50.

Project/Activity: Housing Authority of Starr County (TX396), Rio Grande City, TX.

Nature of Requirement: Section 902.20 of HUD's regulations addresses the physical condition indicator of HUD's Public Housing Assessment System (PHAS). Section 902.40 addresses the management operations indicator of PHAS and § 902.50 addresses the resident service and satisfaction indicator. Each of these sections required certain actions on the part of public housing agency.

Granted By: Orlando J. Cabrera, Assistant Secretary for Public and Indian Housing.

Date Granted: September 18, 2007.

Reason Waived: The Housing Authority of Starr County (HA) was granted a waiver of the physical inspections, submission of the management operations certifications and resident satisfaction surveys for FYE June 30, 2007, due to a natural disaster of severe flooding. The HA was forced to abandon its office and establish a temporary office at another location.

Contact: Myra E. Newbill, Acting Program Manager, NASS, Real Estate Assessment Center, Office of Public and Indian Housing, Department of Housing and Urban Development, 550 12th Street, SW., Suite 100, Washington, DC 20410, telephone (202) 475-8988.

• Regulation: 24 CFR 902.33.

Project/Activity: Dearborn Housing Commission (MI003), Dearborn, MI.

Nature of Requirement: Section 902.33 of HUD's PHAS regulations establishes certain reporting compliance dates. The audited financial statements are required to be submitted no later than nine months after the housing authority's fiscal year end (FYE), in accordance with the Single Audit Act and OMB Circular A-133.

Granted By: Orlando J. Cabrera, Assistant Secretary for Public and Indian Housing.

Date Granted: August 29, 2007.

Reason Waived: The Dearborn Housing Commission (HA) was granted a waiver of the audited financial reporting requirements due for FYE March 31, 2006, because the City of Dearborn implemented a program for blocking spam which blocked the incoming email from the auditor indicating that the financial portion was ready for completion and submission by the HA. The communication oversight caused the HA to receive a Late Presumptive Failure (LPF) and a score of zero under the financial indicator. The Real Estate Assessment Center's (REAC) records confirmed that the audit was completed and ready for submission. The waiver also invalidated the LPF.

Contact: Myra E. Newbill, Acting Program Manager, NASS, Real Estate Assessment Center, Office of Public and Indian Housing, Department of Housing and Urban Development, 550 12th Street, SW., Suite 100, Washington, DC 20410, telephone (202) 475-8988.

• Regulation: 24 CFR 902.33.

Project/Activity: St. Bernard Parish Government Department of Human Resources (LA187), Chalmette, LA.

Nature of Requirement: Section 902.33 of HUD's PHAS regulations establishes certain reporting compliance dates; namely, the unaudited financial statements are required to be submitted within two months after the housing authority's Fiscal Year End (FYE), and the audited financial statements are required to be submitted no later than nine months after the HA's FYE, in accordance with the Single Audit Act and OMB Circular A-133 (24 CFR 902.33).

Granted By: Orlando J. Cabrera, Assistant Secretary for Public and Indian Housing.

Date Granted: September 20, 2007.

Reason Waived: The St. Bernard Parish Government Department of Human Resources (HA) was granted a waiver of the unaudited and audited financial submission for FYE December 31, 2005 and 2006, due to Hurricane Katrina where all government activity ceased due to emergency operations. The HA received its FYE 2005 audit report, but was informed that the 2006 financial report would not be finalized until September 30, 2007. The waiver allowed the HA to October 31, 2007, to submit its FYE 2006 audited financial statements, and to immediately submit its FYE 2005 audited financial report.

Contact: Myra E. Newbill, Acting Program Manager, NASS, Real Estate Assessment Center, Office of Public and Indian Housing, Department of Housing and Urban Development, 550 12th Street, SW., Suite 100, Washington, DC 20410, telephone (202) 475-8988.

• Regulation: 24 CFR 902.33.

Project/Activity: Arizona Public Housing Authority of the Arizona Department of Housing (AZ901), Phoenix, AZ.

Nature of Requirement: Section 902.33 of HUD's PHAS regulations establishes certain reporting compliance dates; namely, the audited financial statements are required to be submitted no later than nine months after the housing authority's Fiscal Year End (FYE), in accordance with the Single Audit Act and OMB Circular A-133 (24 CFR 902.33).

Granted By: Orlando J. Cabrera, Assistant Secretary for Public and Indian Housing.

Date Granted: August 8, 2007.

Reason Waived: The Arizona Public Housing Authority (HA) of the Arizona Department of Housing falls under the single audit requirement of the Office of Management and Budget A-133, and does not conduct a separate audit. The HA, whose Section 8 Housing Voucher Program budget is less than $300,000.00, is dependent upon the Office of the Auditor General (OAG) to conduct its audit. The OAG indicated that the HA's audit for FYE June 30, 2006 would not be completed by the March 31, 2007 deadline. The waiver granted provided the HA with additional time to submit its audited financial information because the HA expends less than $500,000 and is not the primary reporting agency, as it is under the jurisdiction of the primary reporting agency, the Arizona Department of Housing.

Contact: Myra E. Newbill, Acting Program Manager, NASS, Real Estate Assessment Center, Office of Public and Indian Housing, Department of Housing and Urban Development, 550 12th Street, SW., Suite 100, Washington, DC 20410, telephone (202) 475-8988.

• Regulation: 24 CFR 902.33.

Project/Activity: Housing Authority of the City of Raton (NM008), Raton, NM.

Nature of Requirement: Section 902.33 of HUD's PHAS regulations establishes certain reporting compliance dates; namely, the audited financial statements are required to be submitted no later than nine months after the housing authority's Fiscal Year End (FYE), in accordance with the Single Audit Act and OMB Circular A-133 (24 CFR 902.33).

Granted By: Orlando J. Cabrera, Assistant Secretary for Public and Indian Housing.

Date Granted: August 13, 2007.

Reason Waived: The Housing Authority of the City of Raton (HA) submitted its audited financial data for FYE June 30, 2006 by the due date. The HA's submission was rejected, and upon resubmission of the corrected audited submission, the HA and the new auditor made errors while processing the resubmission of the audit to the Real Estate Assessment Center (REAC) that resulted in a Late Presumptive Score of zero under the financial indicator. The HA's Executive Director was proactive in reminding the auditor to follow-up with the resubmission; however, circumstances beyond the control of the HA caused the HA not to resubmit on time.

Contact: Myra E. Newbill, Acting Program Manager, NASS, Real Estate Assessment Center, Office of Public and Indian Housing, Department of Housing and Urban Development, 550 12th Street, SW., Suite 100, Washington, DC 20410, telephone (202) 475-8988.

• Regulation: 24 CFR 902.33.

Project/Activity: Housing Authority of Snohomish County (WA039), Everett, WA.

Nature of Requirement: Section 902.33 of HUD's PHAS regulations establishes certain reporting compliance dates. The audited financial statements are required to be submitted no later than nine months after the housing authority's fiscal year end (FYE), in accordance with the Single Audit Act and OMB Circular A-133.

Granted By: Orlando J. Cabrera, Assistant Secretary for Public and Indian Housing.

Date Granted: July 25, 2007.

Reason Waived: The Housing Authority of Snohomish County (HA) was granted a waiver of the Late Presumptive Failure (LPF) score of zero under the audited Financial Assessment Subsystem (FASS) indicator for failing to submit the audited financial data. The audit was completed timely. The HA and the auditor completed the first and second step of the three-step submission process; however, the auditor failed to notify the HA that the audit was ready for resubmission to the Real Estate Assessment Center. The miscommunication resulted in the LPF. The waiver allowed the HA to resubmit its audit and to receive a new FASS indicator score.

Contact: Myra E. Newbill, Acting Program Manager, NASS, Real Estate Assessment Center, Office of Public and Indian Housing, Department of Housing and Urban Development, 550 12th Street, SW., Suite 100, Washington, DC 20410, telephone (202) 475-8988.

• Regulation: 24 CFR 902.33.

Project/Activity: Detroit Housing Commission (MI001), Detroit, MI.

Nature of Requirement: Section 902.33 of HUD's PHAS regulations establishes certain reporting compliance dates. The unaudited financial statements are required to be submitted no later than two months after the housing authority's fiscal year end (FYE), in accordance with the Single Audit Act and OMB Circular A-133.

Granted By: Orlando J. Cabrera, Assistant Secretary for Public and Indian Housing.

Date Granted: September 26, 2007.

Reason Waived: The Detroit Housing Commission (HA) was granted an extension waiver of 120 days to submit its unaudited financial data for FYE June 30, 2007. The HA is currently under the HUD Recovery Administrator, and is completing the process for ensuring compliance with the Generally Accepted Accounting Principles (GAAP) reporting requirements. The HA was required to submit by no later than December 29, 2007.

Contact: Myra E. Newbill, Acting Program Manager, NASS, Real Estate Assessment Center, Office of Public and Indian Housing, Department of Housing and Urban Development, 550 12th Street, SW., Suite 100, Washington, DC 20410, telephone (202) 475-8988.

• Regulation: 24 CFR 902.60(d) and (e).

Project/Activity: Metropolitan Development and Housing Agency of Nashville (TN005), Nashville, TN.

Nature of Requirement: Section 902.60 of HUD's PHAS regulations establishes annual certification requirements for management operations and resident satisfaction surveys.

Granted By: Orlando J. Cabrera, Assistant Secretary for Public and Indian Housing.

Date Granted: July 19, 2007.

Reason Waived: The Metropolitan Development and Housing Agency of Nashville (HA) was granted a waiver to have more resources to concentrate on organizational, procedural and software changes to convert to asset management. The HA was granted a waiver from the requirements of 24 CFR 902.60(d), to submit a management operations certification, and 24 CFR 902.60(e), from the resident satisfaction survey, for the fiscal year ending September 30, 2007. The Management Assessment Subsystem (MASS) and Resident Assessment Subsystem (RASS) scores under the Public Housing Assessment System will be carried from the previous reporting period.

Contact: Greg Byrne, Director, Financial Management Division, Real Estate Assessment Center, Office of Public and Indian Housing, Department of Housing and Urban Development, 550 12th Street, SW., Suite 200, Washington, DC 20410, telephone (202) 475-8632.

• Regulation: 24 CFR 902.60(d) and (e).

Project/Activity: Housing Authority for the City of Troy, (AL177), Troy, AL.

Nature of Requirement: Section 902.60 of HUD's PHAS regulations establishes annual certification requirements for management operations and resident satisfaction surveys.

Granted By: Orlando J. Cabrera, Assistant Secretary for Public and Indian Housing.

Date Granted: August 13, 2007.

Reason Waived: The Housing Authority for the City of Troy, (HA) was granted a waiver to have more resources to concentrate on organizational, procedural and software changes to convert to asset management. The HA was granted a waiver from the requirements of 24 CFR 902.60(d), to submit a management operations certification, and 24 CFR 902.60(e), from the resident satisfaction survey, for the fiscal year ending June 30, 2007. The Management Assessment Subsystem (MASS) and Resident Assessment Subsystem (RASS) scores under the Public Housing Assessment System will be carried over from the previous reporting period.

Contact: Greg Byrne, Director, Financial Management Division, Real Estate Assessment Center, Office of Public and Indian Housing, Department of Housing and Urban Development, 550 12th Street, SW., Suite 200, Washington, DC 20410, telephone (202) 475-8632.

• Regulation: 24 CFR 902.60(d) and (e).

Project/Activity: Dyersburg Housing Authority, (TN021), Dyersburg, TN.

Nature of Requirement: Section 902.60 of HUD's PHAS regulations establishes annual certification requirements for management operations and resident satisfaction surveys.

Granted By: Orlando J. Cabrera, Assistant Secretary for Public and Indian Housing.

Date Granted: August 13, 2007.

Reason Waived: The Dyersburg Housing Authority (HA) was granted a waiver to have more resources to concentrate on organizational, procedural and software changes to convert to asset management. The HA was granted a waiver from the requirements of 24 CFR 902.60(d), to submit a management operations certification, and 24 CFR 902.60(e), from the resident satisfaction survey, for the fiscal year ending June 30, 2007. The Management Assessment Subsystem (MASS) and Resident Assessment Subsystem (RASS) scores under the Public Housing Assessment System will be carried over from the previous reporting period.

Contact: Greg Byrne, Director, Financial Management Division, Real Estate Assessment Center, Office of Public and Indian Housing, Department of Housing and Urban Development, 550 12th Street, SW., Suite 200, Washington, DC 20410, telephone (202) 475-8632.

• Regulation: 24 CFR 902.60(d) and (e).

Project/Activity: Rahway Housing Authority, (NJ032), Rahway, NJ.

Nature of Requirement: Section 902.60 of HUD's PHAS regulations establishes annual certification requirements for management operations and resident satisfaction surveys.

Granted By: Orlando J. Cabrera, Assistant Secretary for Public and Indian Housing.

Date Granted: August 13, 2007.

Reason Waived: The Rahway Housing Authority (HA) was granted a waiver to have more resources to concentrate on organizational, procedural and software changes to convert to asset management. The HA was granted a waiver from the requirements of 24 CFR 902.60(d), to submit a management operations certification, and 24 CFR 902.60(e), from the resident satisfaction survey, for the fiscal year ending September 30, 2007. The Management Assessment Subsystem (MASS) and Resident Assessment Subsystem (RASS) scores under the Public Housing Assessment System will be carried over from the previous reporting period.

Contact: Greg Byrne, Director, Financial Management Division, Real Estate Assessment Center, Office of Public and Indian Housing, Department of Housing and Urban Development, 550 12th Street, SW., Suite 200, Washington, DC 20410, telephone (202) 475-8632.

• Regulation: 24 CFR 902.60(d) and (e).

Project/Activity: Housing Authority for the County of Butte, (CA043), Chico, CA.

Nature of Requirement: Section 902.60 of HUD's PHAS regulations establishes annual certification requirements for management operations and resident satisfaction surveys.

Granted By: Orlando J. Cabrera, Assistant Secretary for Public and Indian Housing.

Date Granted: August 21, 2007.

Reason Waived: Housing Authority for the County of Butte (HA) was granted a waiver to have more resources to concentrate on organizational, procedural and software changes to convert to asset management. The HA was granted a waiver from the requirements of 24 CFR 902.60(d), to submit a management operations certification, and 24 CFR 902.60(e), from the resident satisfaction survey, for the fiscal year ending September 30, 2007. The Management Assessment Subsystem (MASS) and Resident Assessment Subsystem (RASS) scores under the Public Housing Assessment System will be carried over from the previous reporting period.

Contact: Greg Byrne, Director, Financial Management Division, Real Estate Assessment Center, Office of Public and Indian Housing, Department of Housing and Urban Development, 550 12th Street, SW., Suite 200, Washington, DC 20410, telephone (202) 475-8632.

• Regulation: 24 CFR 902.60(d) and (e).

Project/Activity: Helena Housing Authority, (MT004), Helena, MT.

Nature of Requirement: Section 902.60 of HUD's PHAS regulations establishes annual certification requirements for management operations and resident satisfaction surveys.

Granted By: Orlando J. Cabrera, Assistant Secretary for Public and Indian Housing.

Date Granted: August 28, 2007.

Reason Waived: Helena Housing Authority (HA) was granted a waiver to have more resources to concentrate on organizational, procedural and software changes to convert to asset management. The HA was granted a waiver from the requirements of 24 CFR 902.60(d), to submit a management operations certification, and 24 CFR 902.60(e), from the resident satisfaction survey, for the fiscal year ending September 30, 2007. The Management Assessment Subsystem (MASS) and Resident Assessment Subsystem (RASS) scores under the Public Housing Assessment System will be carried over from the previous reporting period.

Contact: Greg Byrne, Director, Financial Management Division, Real Estate Assessment Center, Office of Public and Indian Housing, Department of Housing and Urban Development, 550 12th Street, SW., Suite 200, Washington, DC 20410, telephone (202) 475-8632.

• Regulation: 24 CFR 902.60(d) and (e).

Project/Activity: Housing Authority for the City of Eufaula, (AL118), Eufaula, AL.

Nature of Requirement: Section 902.60 of HUD's PHAS regulations establishes annual certification requirements for management operations and resident satisfaction surveys.

Granted By: Orlando J. Cabrera, Assistant Secretary for Public and Indian Housing.

Date Granted: August 29, 2007.

Reason Waived: Housing Authority for the City of Eufaula (HA) was granted a waiver to have more resources to concentrate on organizational, procedural and software changes to convert to asset management. The HA was granted a waiver from the requirements of 24 CFR 902.60(d), to submit a management operations certification, and 24 CFR 902.60(e), from the resident satisfaction survey, for the fiscal year ending December 31, 2007. The Management Assessment Subsystem (MASS) and Resident Assessment Subsystem (RASS) scores under the Public Housing Assessment System will be carried from the previous reporting period.

Contact: Greg Byrne, Director, Financial Management Division, Real Estate Assessment Center, Office of Public and Indian Housing, Department of Housing and Urban Development, 550 12th Street, SW., Suite 200, Washington, DC, 20410, telephone (202) 475-8632.

• Regulation: 24 CFR 902.60(d) and (e).

Project/Activity: Housing Authority for the City of Talladega, (AL105), Talladega, AL.

Nature of Requirement: Section 902.60 of HUD's PHAS regulations establishes annual certification requirements for management operations and resident satisfaction surveys.

Granted By: Orlando J. Cabrera, Assistant Secretary for Public and Indian Housing.

Date Granted: September 4, 2007.

Reason Waived: Housing Authority for the City of Taladega (HA) was granted a waiver to have more resources to concentrate on organizational, procedural and software changes to convert to asset management. The HA was granted a waiver from the requirements of 24 CFR 902.60(d), to submit a management operations certification, and 24 CFR 902.60(e), from the resident satisfaction survey, for the fiscal year ending December 31, 2007. The Management Assessment Subsystem (MASS) and Resident Assessment Subsystem (RASS) scores under the Public Housing Assessment System will be carried over from the previous reporting period.

Contact: Greg Byrne, Director, Financial Management Division, Real Estate Assessment Center, Office of Public and Indian Housing, Department of Housing and Urban Development, 550 12th Street, SW., Suite 200, Washington, DC, 20410, telephone (202) 475-8632.

• Regulation: 24 CFR 902.60(d) and (e).

Project/Activity: The Greene Metropolitan Housing Authority, (OH022), Xenia, OH.

Nature of Requirement: Section 902.60 of HUD's PHAS regulations establishes annual certification requirements for management operations and resident satisfaction surveys.

Granted By: Orlando J. Cabrera, Assistant Secretary for Public and Indian Housing.

Date Granted: September 10, 2007.

Reason Waived: Greene Metropolitan Housing Authority (HA) was granted a waiver to have more resources to concentrate on organizational, procedural and software changes to convert to asset management. The HA was granted a waiver from the requirements of 24 CFR 902.60(d), to submit a management operations certification, and 24 CFR 902.60(e), from the resident satisfaction survey, for the fiscal year ending December 31, 2007. The Management Assessment Subsystem (MASS) and Resident Assessment Subsystem (RASS) scores under the Public Housing Assessment System will be carried from the previous reporting period.

Contact: Greg Byrne, Director, Financial Management Division, Real Estate Assessment Center, Office of Public and Indian Housing, Department of Housing and Urban Development, 550 12th Street, SW., Suite 200, Washington, DC, 20410, telephone (202) 475-8632.

• Regulation: 24 CFR 902.60(d) and (e).

Project/Activity: Housing Authority for the City of Inkster, (MI027), Inkster, MI.

Nature of Requirement: Section 902.60 of HUD's PHAS regulations establishes annual certification requirements for management operations and resident satisfaction surveys.

Granted By: Orlando J. Cabrera, Assistant Secretary for Public and Indian Housing.

Date Granted: September 26, 2007.

Reason Waived: Housing Authority for the City of Inkster (HA) was granted a waiver to have more resources to concentrate on organizational, procedural and software changes to convert to asset management. The HA was granted a waiver from the requirements of 24 CFR 902.60(d), the requirement to submit a management operations certification, for the fiscal year ending December 31, 2007 and 24 CFR 902.60(e), the resident satisfaction survey, for the fiscal years ending December 31, 2006 and December 31, 2007. The Management Assessment Subsystem (MASS) and Resident Assessment Subsystem (RASS) scores under the Public Housing Assessment System will be carried over from the previous reporting period.

Contact: Greg Byrne, Director, Financial Management Division, Real Estate Assessment Center, Office of Public and Indian Housing, Department of Housing and Urban Development, 550 12th Street, SW., Suite 200, Washington, DC, 20410, telephone (202) 475-8632.

• Regulation: 24 CFR 941.606(n)(1)(ii).

Project/Activity: Charleston Replacement Housing Mixed-Finance Rental Project. Waiver requested by the Charleston Kanawha Housing Authority (CKHA), Charleston, West Virginia for the Charleston Replacement Housing Mixed-Finance Rental project consisting of 22 public housing units and 22 project-based Section 8 units.

Nature of Requirement: Section 941.606 of HUD's public housing regulations provides “that if the partner and/or owner entity (or any other entity with an identity of interest with such parties) wants to serve as the general contractor for the project or development, it may award itself the construction contract only if it can demonstrate to HUD's satisfaction that its bid is the lowest bid submitted in response to a public request for bids”.

Granted By: Orlando J. Cabrera, Assistant Secretary for Public and Indian Housing.

Date Granted: September 12, 2007.

Reason Waived: CHKA submitted a certification by an independent third-party construction cost estimator and HUD reviewed the independent cost estimates and related budgets. The project is below the Total Development Cost limit, pursuant to PIH Notice 2007-19, and HUD performed a fee analysis of the construction contract which showed that all of the construction fees are within HUD's Cost Control and Safe Harbor Standards, revised April 9, 2003.

Contact: Dominique Blom, Deputy Assistant Secretary for the Office of Public Housing Investments, Office of Public and Indian Housing, Department of Housing and Urban Development, 451 Seventh Street, SW., Washington, DC 20140-5000, Room 4130, telephone (202) 402-4181.

• Regulation: 24 CFR 941.606(n)(1)(ii)(B).

Project/Activity: Albany Housing Authority, Albany, NY; Arbor Hill 3-B (HOPE VI rental housing development).

Nature of Requirement: Section 941.606 of HUD's public housing regulations provides that partner and/or owner entity can award a construction contract to itself or a related entity only if it can demonstrate to HUD's satisfaction that the contractor's bid is the lowest bid submitted in response to a public request for bids.

Granted By: Orlando J. Cabrera, Assistant Secretary for Public and Indian Housing.

Date Granted: July 25, 2007.

Reason Waived: AHA procured the services of an independent third-party construction cost estimating firm. The identity of interest party's contract cost was less than the independent third-party's cost estimate. AHA has demonstrated that the construction costs are reasonable and are within applicable HUD cost limits.

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.610(a)(1)-(a)(7).

Project/Activity: Charlotte Housing Authority Piedmont Courts HOPE VI Project: 940 Brevard Mixed-Finance Project.

Nature of Requirement: Section 941.610 of HUD's public housing regulations requires HUD review and approval of certain legal documents related to mixed-finance development before closing can occur and public housing funds can be released.

Granted By: Orlando J. Cabrera, Assistant Secretary for Public and Indian Housing.

Date Granted: July 6, 2007.

Reason Waived: CHA is a high performing housing authority with extensive development and mixed-finance experience. CHA has received four HOPE VI grants and has done over 20 mixed-finance and homeownership projects related to the HOPE VI grants. The partners in the project are equally experienced. All partners in this project have extensive internal review processes and financial control mechanisms related to financing. The attorneys representing each of the partners also have extensive mixed-finance experience. HUD review would repeat and duplicate the activities which these processes are already performing. This project is also a near duplicate of the many previous mixed-finance projects undertaken by CHA, all of which underwent full evidentiary document review and approval by HUD. Many of these deals had the same ownership structure, participating parties, tax credit investor, and financial structure as 940 Brevard.

Good cause was presented to grant the waiver of 24 CFR 941.610(a)(1)-(a)(7). Under the waiver, these documents no longer need to be submitted to HUD for review. In lieu of HUD's review of these documents, and before public housing funds can be released, the PHA must submit documentation which certifies, in form specified by HUD, to the accuracy and authenticity of the legal documents detailed in § 941.610(a)(1)-(a)(7).

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 941.610(a)(1)-(a)(7).

Project/Activity: Charlotte Housing Authority Earle Village HOPE VI Project Glen Cove and McAlpine Terrace Mixed-Finance Projects HOPE VI Project Number: NC19URD003I193.

Nature of Requirement: Section 941.610 of HUD's public housing regulations requires HUD review and approval of certain legal documents related to mixed-finance development before closing can occur and public housing funds can be released.

Granted By: Orlando J. Cabrera, Assistant Secretary for Public and Indian Housing.

Date Granted: July 20, 2007.

Reason Waived: CHA is a high performing housing authority with extensive development and mixed-finance experience. CHA has received four HOPE VI grants and has done over 20 mixed-finance and homeownership projects related to the HOPE VI grants. CHA has worked on numerous occasions with the City to finance mixed-finance transactions. The partners in the project are equally experienced. All partners in this project have extensive internal review processes and financial control mechanisms related to financing. The attorneys representing CHA also have extensive mixed-finance experience. HUD review would repeat and duplicate the activities which these processes are already performing. This project is also a near duplicate of the many previous mixed-finance projects undertaken by CHA, all of which underwent full evidentiary document review and approval by HUD. Many of these deals had the same ownership structure, participating parties, tax credit investor, and financial structure as 940 Brevard.

Good cause was presented to grant the waiver of 24 CFR 941.610 (a)(1)-(a)(7). Under the waiver, these documents no longer need to be submitted to HUD for review. In lieu of HUD's review of these documents, and before public housing funds can be released, the PHA must submit documentation which certifies, in form specified by HUD, to the accuracy and authenticity of the legal documents detailed in § 941.610(a)(1)-(a)(7).

Contact: Dominique Blom, Deputy Assistant Secretary for the Office of Public Housing Investments, Office of Public and Indian Housing, Department of Housing and Urban Development, 451 Seventh Street, SW., Room 4130, Washington, DC 20140-5000, telephone (202) 402-4181.

• Regulation: 24 CFR 983.51, 983.152, and 983.204.

Project/Activity: Housing Authority of New Orleans (HANO), New Orleans, LA. In regard to its project-based voucher (PBV) developments, Flint Goodridge and Redemptorist Apartments, the HANO requested a waiver regarding competition of owner proposals, housing quality standards (HQS) inspections; and the Agreement to enter into a Housing Assistance Payments (AHAP) contract.

Nature of Requirement: Section 983.51 of HUD's voucher regulations states the requirements of owner proposal selection. Section 983.152 states the requirements for the AHAP. Section 983.204 states the requirements for the passage of HQS inspections before the execution of a housing assistance payments (HAP) contract.

Granted By: Orlando J. Cabrera, Assistant Secretary for Public and Indian Housing.

Date Granted: September 26, 2007.

Reason Waived: The regulations were waived due to the critical housing needs of New Orleans pursuant to Hurricanes Katrina and Rita and the continuing re-occupancy efforts over the past two years, as well as the willingness of all parties to correct initial contract deficiencies.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.54(j).

Project/Activity: Macon Housing Authority (MHA), Macon, GA. The MHA requested a waiver regarding attaching project-based vouchers (PBV) to 25 units at Vineville Christian Towers since it is a Section 101 rent supplement project.

Nature of Requirement: Section 983.54(j) of HUD's voucher regulation states that a public housing agency may not attach or pay PBV assistance to units in a Section 101 rent supplement project (12 U.S.C. 1701s).

Granted By: Orlando J. Cabrera, Assistant Secretary for Public and Indian Housing.

Date Granted: August 29, 2007.

Reason Waived: The rent supplement contract provides subsidy for 23 of 39 units operating at a loss, and the PBV contract will only attach assistance to 25 of the 157 unsubsidized units and no duplicative subsidy will be provided for the project.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 985.101(a).

Project/Activity: Gainesville Housing Authority (GA), Gainesville, TX. The GHA requested a waiver regarding submission of its Section 8 Management Assessment Program (SEMAP) certification for its fiscal year ending June 30, 2007.

Nature of Requirement: Section 985.101(a) of HUD's voucher regulations states that a public housing agency must submit the HUD-required SEMAP certification form within 60 calendar days after the end of its fiscal year.

Granted By: Orlando J. Cabrera, Assistant Secretary for Public and Indian Housing.

Date Granted: September 12, 2007.

Reason Waived: The GHA was unable to gather and verify the data that is entered on the SEMAP certification due to substantial flooding and damage to the records.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.207(b)(3).

Project/Activity: Contra Costa County Housing Authority (CCCHA), Contra Costa County, CA. The CCHA requested a waiver of a selection preference regulation in order to select Housing Opportunities for Persons with AIDS (HOPWA)-eligible families to occupy five of the units receiving project-based voucher assistance at the 124-unit Lakeside Apartments project.

Nature of Requirement: Section 982.207(b)(3) of HUD's voucher regulations, which governs tenant selection under the project-based voucher program, states that a housing agency may adopt a preference for admission of families that include a person with disabilities, but may not adopt a preference for persons with a specific disability.

Granted By: Orlando J. Cabrera, Assistant Secretary for Public and Indian Housing.

Date Granted: August 13, 2007.

Reason Waived: Since by law, persons with HIV/AIDS only may occupy units developed with HOPWA funds, a public housing agency may only authorize occupancy of such units that also receive project-based voucher assistance by persons with HIV/AIDS. Therefore, in selecting families to refer to the owner for occupancy of these units, the CCHA will have to pass over persons on its waiting list until it reaches a person with HIV/AIDS who is interested in moving into one of these units at Lakeside Apartments.

Contact: Danielle Bastarache, Director, Housing Voucher Management and Operations Division, Office of Public Housing and Voucher Programs, Office of Public and Indian Housing, Department of Housing and Urban Development, 451 Seventh Street SW., Room 4210, Washington, DC 20410-5000, telephone (202) 708-0477.

• Regulation: 24 CFR 982.505(d).

Project/Activity: Housing Authority of Snohomish County (HASC), Snohomish County, WA. The HASC requested a waiver regarding exception payment standards so that it could provide a reasonable accommodation to a person with disabilities.

Nature of Requirement: Section 982.505(d) of HUD's voucher regulations states that a public housing agency may only approve a higher payment standard for a family as a reasonable accommodation if the higher payment standard is within the basic range of 90 to 110 percent of the fair market rent (FMR) for the unit size.

Granted By: Orlando J. Cabrera, Assistant Secretary for Public and Indian Housing.

Date Granted: September 26, 2007.

Reason Waived: The applicant, who is a person with disabilities, owns a manufactured home that meets her physical needs and is accessible to stores and her doctor's office. To provide a reasonable accommodation so that this applicant would pay no more than 40 percent of adjusted income toward the family share, the HASC was allowed to approve an exception payment standard that exceeded the basic range of 90 to 110 percent of the FMR.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR Section 982.505(d).

Project/Activity: Housing Authority of Snohomish County (HASC) Snohomish County, WA. The HASC requested a waiver regarding exception payment standards so that it could provide a reasonable accommodation to a person with disabilities.

Nature of Requirement: Section 982.505(d) of HUD's voucher regulations states that a public housing agency may only approve a higher payment standard for a family as a reasonable accommodation if the higher payment standard is within the basic range of 90 to 110 percent of the fair market rent (FMR) for the unit size.

Granted By: Orlando J. Cabrera, Assistant Secretary for Public and Indian Housing.

Date Granted: September 12, 2007.

Reason Waived: The applicant, who is a person with disabilities, owns a manufactured home that meets her physical needs and is accessible to her social support system. To provide a reasonable accommodation so that this applicant would pay no more than 40 percent of adjusted income toward the family share, the HASC was allowed to approve an exception payment standard that exceeded the basic range of 90 to 110 percent of the FMR.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Schenectady Municipal Housing Authority (SMHA), Schenectady, NY. The SMHA requested a waiver regarding exception payment standards so that it could provide a reasonable accommodation to a person with disabilities.

Nature of Requirement: Section 982.505(d) of HUD's voucher regulations states that a public housing agency may only approve a higher payment standard for a family as a reasonable accommodation if the higher payment standard is within the basic range of 90 to 110 percent of the fair market rent (FMR) for the unit size.

Granted By: Orlando J. Cabrera, Assistant Secretary for Public and Indian Housing.

Date Granted: September 5, 2007.

Reason Waived: An applicant, who is a person with disabilities, located a unit that met her needs for a wheelchair-accessible unit that was near her parents and medical support system. To provide a reasonable accommodation so that this applicant would pay no more than 40 percent of adjusted income toward the family share, the SMHA was allowed to approve an exception payment standard that exceeded the basic range of 90 to 110 percent of the FMR.

Contact: Danielle Bastarache, Director, Housing Voucher Management and Operations Division, Office of Public Housing and Voucher Programs, Office of Public and Indian Housing, Department of Housing and Urban Development, 451 Seventh Street SW., Room 4210, Washington, DC 20410-5000, telephone (202) 708-0477.

• Regulation: 24 CFR 982.505(d).

Project/Activity: Housing Authority of the City of New Haven (HACNH), New Haven, CT. The HACNH requested a waiver regarding exception payment standards so that it could provide a reasonable accommodation to a person with disabilities.

Nature of Requirement: Section 982.505(d) of HUD's voucher regulations states that a public housing agency may only approve a higher payment standard for a family as a reasonable accommodation if the higher payment standard is within the basic range of 90 to 110 percent of the fair market rent (FMR) for the unit size.

Granted By: Orlando J. Cabrera, Assistant Secretary for Public and Indian Housing.

Date Granted: August 30, 2007.

Reason Waived: An applicant, who is a person with disabilities, located a unit that met his needs for a wheelchair-accessible unit after an extensive housing search. To provide a reasonable accommodation so that this applicant would pay no more than 40 percent of adjusted income toward the family share, the HACNH was allowed to approve an exception payment standard that exceeded the basic range of 90 to 110 percent of the FMR.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 982.505(d).

Project/Activity: Milford Housing Authority (MHA), Milford, MA. The MHA requested a waiver regarding exception payment standards so that it could provide a reasonable accommodation to a person with disabilities.

Nature of Requirement: Section 982.505(d) of HUD's voucher regulations states that a public housing agency may only approve a higher payment standard for a family as a reasonable accommodation if the higher payment standard is within the basic range of 90 to 110 percent of the fair market rent (FMR) for the unit size.

Granted By: Orlando J. Cabrera, Assistant Secretary for Public and Indian Housing.

Date Granted: August 20, 2007.

Reason Waived: The participant, who is a person with disabilities, located a unit that met her needs after an extensive housing search. To provide a reasonable accommodation so that this participant would pay no more than 40 percent of adjusted income toward the family share, the MHA was allowed to approve an exception payment standard that exceeded the basic range of 90 to 110 percent of the FMR.

Contact: Danielle Bastarache, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 990.185(a).

Project/Activity: The Housing Authority of the County of San Bernardino (HACSB), San Bernardino, California. The HACSB is contracting to Energy Performance through a term longer than the stated 12-year maximum.

Nature of Requirement: On August 8, 2005, President Bush signed into law the Energy Policy Act of 2005. Public Law 109-58, Subtitle D—Public Housing, Section 151, (2)(B) amends Section 9(e)(2)(C) of the United States Housing Act of 1937 by adding a new paragraph (iii), which states “Term of contract:—The total term of a contract shall not exceed 20 years to allow longer payback periods for retrofits, including windows, heating systems replacements, wall insulation, site-based generation, advanced energy savings technologies, including renewable energy generation, and other such retrofits.” However, HUD's current regulation 24 CFR 990.185(a) states that the contract period shall not exceed 12 years.

Granted By: Orlando J. Cabrera, Assistant Secretary for Public and Indian Housing.

Date Granted: September 26, 2007.

Reason Waived: The HACSB is undertaking a self-developed energy project, acting as an Energy Services company, and has hired a qualified third party consultant to provide energy management expertise. HACSB anticipates that recommendations arising from its energy audit will incorporate a selection of energy conservation measures whose life cycle expectations and costs will exceed the 12-year regulatory limitation in 24 CFR 990.185(a). The HASB anticipates that the selection of retrofits will be capable of generating adequate savings to amortize the resulting debt within the approved period of the energy performance contract. Based upon the anticipated savings and benefits to HASB and its residents, this waiver grants the HASB the 12-year payback period to allow up to a 20-year payback period, contingent on HUD's provisions to HASB.

HUD's provisions include additional information and technical activity requirements unique to the characteristics of the project and the PHA. The purpose of the provisions is to ensure success, minimizing risk to projected savings (used to amortize the loan) and to HUD. The PHA must comply with all of HUD's provisions for the waiver to be effective. They may include, but are not limited to information requirements, necessary for the local field office to monitor savings over the life of the loan and procurement requirements to ensure fair and open competition. The HUD provisions are also a direct response to the Office of Management and Budget (OMB) concern related to the higher risk levels associated with a 20-year versus the previous limit of 12 years. The Department through its provisions provides individual assessments and requirements of each project and waiver requesting an extension to 20-contract years to minimize risk and ensure that approval of the waiver is in the best interest of the PHA, HUD and the public.

Contact: Nicole Faison, Director, Office of Public Housing Programs, Office of Public and Indian Housing, Department of Housing and Urban Development, 451 Seventh Street, SW., Room 4238, Washington, DC 20410-5000, telephone (202) 708-0744.

• Regulation: 24 CFR 990.185(a).

Project/Activity: The Lancaster City Housing Authority (LCHA), Lancaster, Pennsylvania. The LCHA is contracting to Energy Performance through a term longer than the stated 12-year maximum.

Nature of Requirement: HUD's regulation at 24 CFR 990.185(a) states that a contract pertaining to energy conservation measures shall not exceed a period of 12 years. However, on August 8, 2005, President Bush signed into law the Energy Policy Act of 2005. Public Law 109-58, Subtitle D—Public Housing, Section 151, (2)(B) amends Section 9(e)(2)(C) of the United States Housing Act of 1937 by adding a new paragraph (iii), which states “Term of contract:—The total term of a contract shall not exceed 20 years to allow longer payback periods for retrofits, including windows, heating systems replacements, wall insulation, site-based generation, advanced energy savings technologies, including renewable energy generation, and other such retrofits.”

Granted By: Orlando J. Cabrera, Assistant Secretary for Public and Indian Housing.

Date Granted: August 20, 2007.

Reason Waived: The LCHA is undertaking a self-developed energy project, acting as an Energy Services company, and hired a qualified third party consultant to provide energy management expertise. LCHA anticipates that recommendations arising from its energy audit will incorporate a selection of energy conservation measures whose life cycle expectations and costs will exceed the 12-year regulatory limitation in 24 CFR 990.185(a). The LCHA anticipates that the selection of retrofits will be capable of generating adequate savings to amortize the resulting debt within the approved period of the energy performance contract. Based upon the anticipated savings and benefits to LCHA and its residents, the waiver granted the LCHA the 12-year payback period to allow up to a 20-year payback period, contingent on HUD's provisions to LCHA.

HUD's provisions include additional information and technical activity requirements unique to the characteristics of the project and the PHA. The purpose of the provisions is to ensure success, minimizing risk to projected savings (used to amortize the loan) and to HUD. The PHA must comply with all of HUD's provisions for the waiver to be effective. They may include, but are not limited to information requirements, necessary for the local field office to monitor savings over the life of the loan and procurement requirements to ensure fair and open competition. The HUD provisions are also a direct response to the Office of Management and Budget (OMB) concern related to the higher risk levels associated with a 20-year versus the previous limit of 12 years. The Department through its provisions provides individual assessments and requirements of each project and waiver requesting an extension to 20-contract years to minimize risk and ensure that approval of the waiver is in the best interest of the PHA, HUD and the public.

Contact: Nicole Faison, Director, Office of Public Housing Programs, Office of Public and Indian Housing, Department of Housing and Urban Development, 451 Seventh Street, SW., Room 4238, Washington, DC 20410-5000, telephone (202) 708-0744.

• Regulation: 24 CFR 990.185(a).

Project/Activity: The Housing Authority of the City of Upland (HACU), Upland, California. The HACU is contracting to Energy Performance through a term longer than the stated 12-year maximum.

Nature of Requirement: HUD's regulation at 24 CFR 990.185(a) states that a contract pertaining to energy conservation measures shall not exceed a period of 12 years. However, on August 8, 2005, President Bush signed into law the Energy Policy Act of 2005. Public Law 109-58, Subtitle D—Public Housing, Section 151, (2)(B) amends Section 9(e)(2)(C) of the United States Housing Act of 1937 by adding a new paragraph (iii), which states “Term of contract:—The total term of a contract shall not exceed 20 years to allow longer payback periods for retrofits, including windows, heating systems replacements, wall insulation, site-based generation, advanced energy savings technologies, including renewable energy generation, and other such retrofits.”

Granted By: Orlando J. Cabrera, Assistant Secretary for Public and Indian Housing.

Date Granted: September 12, 2007.

Reason Waived: The HACU is undertaking a self-developed energy project, acting as an Energy Services company, and has hired a qualified third party consultant to provide energy management expertise. HACU anticipates that recommendations arising from its energy audit will incorporate a selection of energy conservation measures whose life cycle expectations and costs will exceed the 12-year regulatory limitation in 24 CFR 990.185(a). The HACU anticipates that the selection of retrofits will be capable of generating adequate savings to amortize the resulting debt within the approved period of the energy performance contract. Based upon the anticipated savings and benefits to HACU and its residents, this waiver grants the HACU the 12-year payback period to allow up to a 20-year payback period, contingent on HUD's provisions to HACU.

HUD's provisions include additional information and technical activity requirements unique to the characteristics of the project and the PHA. The purpose of the provisions is to ensure success, minimizing risk to projected savings (used to amortize the loan) and to HUD. The PHA must comply with all of HUD's provisions for the waiver to be effective. They may include, but not limited to information requirements, necessary for the local field office to monitor savings over the life of the loan and procurement requirement to ensure fair and open competition. The HUD provisions are also a direct response to the Office of Management and Budget (OMB) concern related to the higher risk levels associated with a 20-year versus the previous limit of 12 years. HUD through its provisions provides individual assessments and requirements of each project and waiver requesting an extension to 20-contract years to minimize risk and ensure that approval of the waiver is in the best interest of the PHA, HUD and the public.

Contact: Nicole Faison, Director, Office of Public Housing Programs, Office of Public and Indian Housing, Department of Housing and Urban Development, 451 Seventh Street, SW., Room 4238, Washington, DC 20410-5000, telephone (202) 708-0744.

• Regulation: 24 CFR 990.185(a).

Project/Activity: The Lackawanna Housing Authority (LHA), Lackawanna, New York.

Nature of Requirement: HUD's regulation at 24 CFR 990.185(a) states that a contract pertaining to energy conservation measures shall not exceed a period of 12 years. However, on August 8, 2005, President Bush signed into law the Energy Policy Act of 2005. Public Law 109-58, Subtitle D—Public Housing, Section 151, (2)(B) amends Section 9(e)(2)(C) of the United States Housing Act of 1937 by adding a new paragraph (iii), which states “Term of contract:—The total term of a contract shall not exceed 20 years to allow longer payback periods for retrofits, including windows, heating systems replacements, wall insulation, site-based generation, advanced energy savings technologies, including renewable energy generation, and other such retrofits.”

Granted By: Orlando J. Cabrera, Assistant Secretary for Public and Indian Housing.

Date Granted: September 12, 2007.

Reason Waived: The LHA is undertaking a self-developed energy project, acting as an Energy Services company, and has hired a qualified third party consultant to provide energy management expertise. LHA anticipates that recommendations arising from its energy audit will incorporate a selection of energy conservation measures whose life cycle expectations and costs will exceed the 12-year regulatory limitation in 24 CFR 990.185(a). The LHA anticipates that the selection of retrofits will be capable of generating adequate savings to amortize the resulting debt within the approved period of the energy performance contract. Based upon the anticipated savings and benefits to LHA and its residents, this waiver grants the LHA the 12-year payback period to allow up to a 20-year payback period, contingent on HUD's provisions to LHA.

HUD's provisions include additional information and technical activity requirements unique to the characteristics of the project and the PHA. The purpose of the provisions is to ensure success, minimizing risk to projected savings (used to amortize the loan) and to HUD. The PHA must comply with all of HUD's provisions for the waiver to be effective. They may include, but not limited to information requirements, necessary for the local field office to monitor savings over the life of the loan and procurement requirement to ensure fair and open competition. The HUD provisions are also a direct response to the Office of Management and Budget (OMB) concern related to the higher risk levels associated with a 20-year versus the previous limit of 12 years. The Department through its provisions provides individual assessments and requirements of each project and waiver requesting an extension to 20-contract years to minimize risk and ensure that approval of the waiver is in the best interest of the PHA, HUD and the public.

Contact: Nicole Faison, Director, Office of Public Housing Programs, Office of Public and Indian Housing, Department of Housing and Urban Development, 451 Seventh Street, SW., Room 4238, Washington, DC 20410-5000, telephone (202) 708-0744.

• Regulation: 24 CFR 1000.336(d).

Project/Activity: The United Keetoowah Band requested a waiver of the § 1000.336(d) deadline for submitting a Census challenge in Fiscal Year (FY) 2008 to the Tribe's Indian Housing Block Grant (IHBG) formula data to enable the Tribe adequate time to collect data and prepare the proper documentation in accordance with Program requirements.

Nature of Requirement: Section 1000.336(d) of HUD's IHBG regulations requires that data and documentation supporting Census challenges be submitted to HUD by March 30, 2007, in order for it to be considered for FY 2008.

Granted By: Orlando J. Cabrera, Assistant Secretary for Public and Indian Housing.

Date Granted: August 30, 2007.

Reasons Waived: The final rule for revisions to the IHBG regulations (24 CFR part 1000) was published in the Federal Register on April 20, 2007, and established the March 30, 2007, deadline for submitting Census challenges for the upcoming FY. Therefore, the United Keetoowah Band did not have the opportunity to prepare a submission prior to the March 30, 2007 deadline, because that date had passed before the revised regulation was published. HUD determined that there was good cause to grant this waiver considering the importance of using the best available data to determine FY 2008 IHBG allocations, and the timing of the publication of the new regulation.

Contact: Deborah M. Lalancette, Director, Office of Grants Management, Office of Native American Programs, Office of Public and Indian Housing, Department of Housing and Urban Development, 1670 Broadway Denver, CO 80202, telephone (303) 675-1600.

• Regulation: 24 CFR 1000.336(d).

Project/Activity: The Native Village of Eyak requested a waiver of the § 1000.336(d) deadline for submitting a Census challenge in Fiscal Year (FY) 2008 to the Tribe's Indian Housing Block Grant (IHBG) formula data to enable the Tribe adequate time to collect data and prepare the proper documentation in accordance with Program requirements.

Nature of Requirement: Section 1000.336(d) of HUD's IHBG regulations requires that data and documentation supporting Census challenges be submitted to HUD by March 30, 2007, in order for it to be considered for FY 2008.

Granted By: Orlando J. Cabrera, Assistant Secretary for Public and Indian Housing.

Date Granted: July 25, 2007.

Reasons Waived: The final rule for revisions to the IHBG regulations (24 CFR part 1000) was published in the Federal Register on April 20, 2007, and established the March 30, 2007, deadline for submitting Census challenges for the upcoming FY. Therefore, the Native Village of Eyak did not have the opportunity to prepare a submission prior to the March 30, 2007 deadline, because that date had passed before the revised regulation was published. HUD determined that there was good cause to grant this waiver considering the importance of using the best available data to determine FY 2008 IHBG allocations, and the timing of the publication of the new regulation.

Contact: Deborah M. Lalancette, Director, Office of Grants Management, Office of Native American Programs, Office of Public and Indian Housing, Department of Housing and Urban Development, 1670 Broadway Denver, CO 80202, telephone (303) 675-1600.

• Regulation: 24 CFR 1000.336(d).

Project/Activity: The Lac du Flambeau Chippewa Housing Authority requested a waiver of the § 1000.336(d) deadline for submitting a Census challenge in Fiscal Year (FY) 2008 to the Tribe's Indian Housing Block Grant (IHBG) formula data to enable the Tribe adequate time to collect data and prepare the proper documentation in accordance with Program requirements.

Nature of Requirement: Section 1000.336(d) of HUD's IHBG regulations requires that data and documentation supporting Census challenges be submitted to HUD by March 30, 2007, in order for it to be considered for FY 2008.

Granted By: Orlando J. Cabrera, Assistant Secretary for Public and Indian Housing.

Date Granted: August 30, 2007.

Reasons Waived: The final rule for revisions to the IHBG regulations (24 CFR Part 1000) was published in the Federal Register on April 20, 2007, and established the March 30, 2007, deadline for submitting Census challenges for the upcoming FY. Therefore, the Lac du Flambeau Chippewa Housing Authority did not have the opportunity to prepare a submission prior to the March 30, 2007 deadline, because that date had passed before the revised regulation was published. HUD determined that there was good cause to grant this waiver considering the importance of using the best available data to determine FY 2008 IHBG allocations, and the timing of the publication of the new regulation.

Contact: Deborah M. Lalancette, Director, Office of Grants Management, Office of Native American Programs, Office of Public and Indian Housing, Department of Housing and Urban Development, 1670 Broadway Denver, CO 80202, telephone (303) 675-1600.

• Regulation: 24 CFR 1000.336(d).

Project/Activity: The Colville Indian Housing Authority requested a waiver of the § 1000.336(d) deadline for submitting a Census challenge in Fiscal Year (FY) 2008 to the Tribe's Indian Housing Block Grant (IHBG) formula data to enable the Tribe adequate time to collect data and prepare the proper documentation in accordance with Program requirements.

Nature of Requirement: Section 1000.336(d) of HUD's IHBG regulations requires that data and documentation supporting Census challenges be submitted to HUD by March 30, 2007, in order for it to be considered for FY 2008.

Granted By: Orlando J. Cabrera, Assistant Secretary for Public and Indian Housing.

Date Granted: August 30, 2007.

Reasons Waived: The final rule for revisions to the IHBG regulations (24 CFR part 1000) was published in the Federal Register on April 20, 2007, and established the March 30, 2007, deadline for submitting Census challenges for the upcoming FY. Therefore, the Colville Indian Housing Authority did not have the opportunity to prepare a submission prior to the March 30, 2007 deadline, because that date had passed before the revised regulation was published. HUD determined that there was good cause to grant this waiver considering the importance of using the best available data to determine FY 2008 IHBG allocations, and the timing of the publication of the new regulation.

Contact: Deborah M. Lalancette, Director, Office of Grants Management, Office of Native American Programs, Office of Public and Indian Housing, Department of Housing and Urban Development, 1670 Broadway Denver, CO 80202, telephone (303) 675-1600.

• Regulation: 24 CFR 1000.336(d).

Project/Activity: The Lower Sioux Indian Tribe requested a waiver of the § 1000.336(d) deadline for submitting a Census challenge in Fiscal Year (FY) 2008 to the Tribe's Indian Housing Block Grant (IHBG) formula data to enable the Tribe adequate time to collect data and prepare the proper documentation in accordance with Program requirements.

Nature of Requirement: Section 1000.336(d) of HUD's IHBG regulations requires that data and documentation supporting Census challenges be submitted to HUD by March 30, 2007, in order for it to be considered for FY 2008.

Granted By: Orlando J. Cabrera, Assistant Secretary for Public and Indian Housing.

Date Granted: August 30, 2007.

Reasons Waived: The final rule for revisions to the IHBG regulations (24 CFR part 1000) was published in the Federal Register on April 20, 2007, and established the March 30, 2007, deadline for submitting Census challenges for the upcoming FY. Therefore, the Lower Sioux Indian Tribe did not have the opportunity to prepare a submission prior to the March 30, 2007 deadline, because that date had passed before the revised regulation was published. HUD determined that there was good cause to grant this waiver considering the importance of using the best available data to determine FY 2008 IHBG allocations, and the timing of the publication of the new regulation.

Contact: Deborah M. Lalancette, Director, Office of Grants Management, Office of Native American Programs, Office of Public and Indian Housing, Department of Housing and Urban Development, 1670 Broadway Denver, CO 80202, telephone (303) 675-1600.

• Regulation: 24 CFR 1000.336(d).

Project/Activity: The Wiyot Tribe requested a waiver of the § 1000.336(d) deadline for submitting a Census challenge in Fiscal Year (FY) 2008 to the Tribe's Indian Housing Block Grant (IHBG) formula data to enable the Tribe adequate time to collect data and prepare the proper documentation in accordance with Program requirements.

Nature of Requirement: Section 1000.336(d) of HUD's IHBG regulations requires that data and documentation supporting Census challenges be submitted to HUD by March 30, 2007, in order for it to be considered for FY 2008.

Granted By: Orlando J. Cabrera, Assistant Secretary for Public and Indian Housing.

Date Granted: August 30, 2007.

Reasons Waived: The final rule for revisions to the IHBG regulations (24 CFR part 1000) was published in the Federal Register on April 20, 2007, and established the March 30, 2007, deadline for submitting Census challenges for the upcoming FY. Therefore, the Wiyot Tribe did not have the opportunity to prepare a submission prior to the March 30, 2007 deadline, because that date had passed before the revised regulation was published. HUD determined that there was good cause to grant this waiver considering the importance of using the best available data to determine FY 2008 IHBG allocations, and the timing of the publication of the new regulation.

Contact: Deborah M. Lalancette, Director, Office of Grants Management, Office of Native American Programs, Office of Public and Indian Housing, Department of Housing and Urban Development, 1670 Broadway, Denver, CO 80202, telephone (303) 675-1600.

[FR Doc. E7-24778 Filed 12-21-07; 8:45 am]

BILLING CODE 4210-67-P